POSTAL SERVICE

Change in Rates and Classes of General Applicability for Competitive Products

AGENCY: Postal Service™.

ACTION: Notice of a change in rates of general applicability for competitive products.

SUMMARY: This notice sets forth time-limited changes in rates of general applicability for competitive products.

DATES: October 18, 2020.

FOR FURTHER INFORMATION CONTACT: Elizabeth Reed, 202-268-3179.

SUPPLEMENTARY INFORMATION: On August 6, 2020, pursuant to their authority under 39 U.S.C. 3632, the Governors of the Postal Service established time-limited price changes for competitive products. The Governors' Decision and the record of proceedings in connection with such decision are reprinted below in accordance with section 3632(b)(2).

Joshua J. Hofer,
Attorney, Federal Compliance.

Decision of the Governors of the United States Postal Service on Changes in Rates of General Applicability for Competitive Products (Governors' Decision No. 20-3)

August 6, 2020

Statement of Explanation and Justification

Pursuant to authority under section 3632 of title 39, as amended by the Postal Accountability and Enhancement Act of 2006 (“PAEA”), we establish new prices of general applicability for certain domestic commercial shipping services (competitive products), and concurrent classification changes to effectuate the new prices. These prices shall be in effect from October 18, 2020 until December 27, 2020, at which time prices will be restored to the levels that were in effect prior to these increases. The changes are described generally below, with a detailed description of the changes in the attachment. The attachment includes the draft Mail Classification Schedule sections with the new prices that will take effect on October 18 displayed in the price charts, as well as the Mail Classification Schedule sections with the prices that will be restored on December 27.

As shown in the nonpublic annex being filed under seal herewith, the changes we establish should enable each competitive product to cover its attributable costs (39 U.S.C. 3633(a)(2)) and should result in competitive products as a whole complying with 39 U.S.C. 3633(a)(3), which, as implemented by 39 CFR 3035.107(c), requires competitive products collectively to contribute a minimum of 9.1 percent to the Postal Service's institutional costs. Accordingly, no issue of subsidization of competitive products by market dominant products should arise (39 U.S.C. 3633(a)(1)). We therefore find that the new prices are in accordance with 39 U.S.C. 3632-3633 and 39 CFR 3035.102.

I. Domestic Products

A. Priority Mail Express

Overall, the Priority Mail Express price change represents a 0.7 percent increase. The existing structure of zoned Retail, Commercial Base, and Commercial Plus price categories is maintained, with Commercial Base and Commercial Plus prices continuing to be set equal to each other. Retail prices will remain unchanged. The Commercial Base and Commercial Plus price categories will increase 4.4 percent on average.

B. Priority Mail

On average, the Priority Mail prices will be increased by 1.7 percent. The existing structure of Priority Mail Retail, Commercial Base, and Commercial Plus price categories is maintained. Retail prices will remain unchanged. The Commercial Base price category will increase 4.2 percent on average, while the Commercial Plus price category will increase 3.9 percent on average.

C. Parcel Select

On average, prices for destination-entered non-Lightweight Parcel Select, the Postal Service's bulk ground shipping product, will increase 5.9 percent. For destination delivery unit (DDU) entered parcels, the average price increase is 6.8 percent. For destination sectional center facility (DSCF) destination entered parcels, the average price increase is 8.0 percent. For destination network distribution center (DNDC) parcels, the average price increase is 5.6 percent. Prices for Parcel Select Lightweight will increase by 12.0 percent, while Parcel Select Ground will see a 3.0 percent price increase.

D. Parcel Return Service

Parcel Return Service prices will have an overall price increase of 3.3 percent. Prices for parcels retrieved at a return sectional center facility (RSCF) will increase by 1.9 percent, and prices for parcels picked up at a return delivery unit (RDU) will increase 4.7 percent.

E. First-Class Package Service

First-Class Package Service (FCPS) continues to be positioned as a lightweight (less than one pound) offering primarily used by businesses for fulfillment purposes. Overall, FCPS prices will increase 5.6 percent, which reflects a 7.0 increase for FCPS-Commercial, and no change to FCPS-Retail prices.

No price changes are being made to USPS Retail Ground, Special Services, or International competitive products.

Order

The changes in prices set forth herein shall be effective at 12:01 a.m. on October 18, 2020, and will be rolled back to current levels on December 27, 2020. We direct the Secretary of the Board of Governors to have this decision published in the Federal Register in accordance with 39 U.S.C. 3632(b)(2), and direct management to file with the Postal Regulatory Commission appropriate notice of these changes.

By The Governors:

/s/

Robert M. Duncan,

Chairman, Board of Governors.

United States Postal Service Office of the Board of Governors

Certification of Governors' Vote on Governors' Decision No. 20-3

Consistent with 39 U.S.C. 3632(a), I hereby certify that, on August 6, 2020, the Governors voted on adopting Governors' Decision No. 20-3, and that a majority of the Governors then holding office voted in favor of that Decision.

/s/

Date: August 6, 2020.

Katherine Sigler,

Secretary of the Board of Governors (A).

Part B

Competitive Products

2000 Competitive Product List

2100 Domestic Products

* * *

* * *

2105 Priority Mail Express

* * *

2105.6 Prices

* * *

Commercial Base Zone/Weight
Maximum weight (pounds) | Local, Zones 1 & 2 ($) | Zone 3 ($) | Zone 4 ($) | Zone 5 ($) | Zone 6 ($) | Zone 7 ($) | Zone 8 ($) | Zone 9 ($)
0.5 | 24.25 | 24.80 | 25.55 | 27.85 | 29.75 | 31.55 | 33.95 | 45.45
1 | 24.50 | 26.70 | 28.95 | 32.70 | 35.15 | 37.15 | 39.55 | 53.00
2 | 24.75 | 28.55 | 32.40 | 37.50 | 40.55 | 42.70 | 45.10 | 60.55
3 | 25.00 | 30.45 | 35.80 | 42.35 | 45.90 | 48.30 | 50.70 | 68.05
4 | 25.25 | 32.30 | 39.25 | 47.15 | 51.30 | 53.85 | 56.25 | 75.60
5 | 25.50 | 34.20 | 42.65 | 52.00 | 56.70 | 59.45 | 61.85 | 83.15
6 | 27.95 | 37.45 | 47.20 | 57.05 | 61.90 | 65.05 | 67.65 | 91.00
7 | 30.40 | 40.70 | 51.80 | 62.10 | 67.10 | 70.65 | 73.45 | 98.85
8 | 32.90 | 44.00 | 56.35 | 67.10 | 72.25 | 76.25 | 79.25 | 106.70
9 | 35.35 | 47.25 | 60.95 | 72.15 | 77.45 | 81.85 | 85.05 | 114.55
10 | 37.80 | 50.50 | 65.50 | 77.20 | 82.65 | 87.45 | 90.85 | 122.40
11 | 39.70 | 54.40 | 69.40 | 81.10 | 86.40 | 91.40 | 95.05 | 128.05
12 | 41.60 | 58.30 | 73.25 | 85.05 | 90.20 | 95.35 | 99.20 | 133.70
13 | 43.55 | 62.20 | 77.15 | 88.95 | 93.95 | 99.30 | 103.40 | 139.40
14 | 45.45 | 66.10 | 81.05 | 92.90 | 97.70 | 103.25 | 107.55 | 145.05
15 | 47.35 | 70.00 | 84.95 | 96.80 | 101.50 | 107.15 | 111.70 | 150.70
16 | 49.25 | 73.85 | 88.80 | 100.70 | 105.25 | 111.10 | 115.90 | 156.35
17 | 51.15 | 77.75 | 92.70 | 104.65 | 109.00 | 115.05 | 120.05 | 162.00
18 | 53.10 | 81.65 | 96.60 | 108.55 | 112.75 | 119.00 | 124.25 | 167.70
19 | 55.00 | 85.55 | 100.45 | 112.50 | 116.55 | 122.95 | 128.40 | 173.35
20 | 56.90 | 89.45 | 104.35 | 116.40 | 120.30 | 126.90 | 132.60 | 179.00
21 | 58.85 | 93.40 | 108.25 | 120.65 | 124.65 | 131.40 | 137.35 | 185.45
22 | 60.85 | 97.35 | 112.15 | 124.95 | 129.00 | 135.95 | 142.10 | 191.90
23 | 62.80 | 101.30 | 116.00 | 129.20 | 133.30 | 140.45 | 146.90 | 198.35
24 | 64.80 | 105.25 | 119.90 | 133.50 | 137.65 | 144.95 | 151.65 | 204.75
25 | 66.75 | 109.20 | 123.80 | 137.75 | 142.00 | 149.45 | 156.40 | 211.20
26 | 68.70 | 113.15 | 127.70 | 142.00 | 146.35 | 154.00 | 161.15 | 217.65
27 | 70.70 | 117.10 | 131.60 | 146.30 | 150.70 | 158.50 | 165.90 | 224.10
28 | 72.65 | 121.05 | 135.45 | 150.55 | 155.00 | 163.00 | 170.70 | 230.55
29 | 74.65 | 125.00 | 139.35 | 154.85 | 159.35 | 167.50 | 175.45 | 237.00
30 | 76.60 | 128.95 | 143.25 | 159.10 | 163.70 | 172.05 | 180.20 | 243.45
31 | 78.55 | 132.90 | 147.15 | 163.35 | 168.05 | 176.55 | 184.95 | 249.90
32 | 80.55 | 136.85 | 151.05 | 167.65 | 172.40 | 181.05 | 189.70 | 256.30
33 | 82.50 | 140.80 | 154.90 | 171.90 | 176.70 | 185.55 | 194.50 | 262.75
34 | 84.50 | 144.75 | 158.80 | 176.20 | 181.05 | 190.10 | 199.25 | 269.20
35 | 86.45 | 148.70 | 162.70 | 180.45 | 185.40 | 194.60 | 204.00 | 275.65
36 | 88.65 | 152.60 | 167.10 | 185.25 | 190.45 | 199.80 | 209.40 | 283.00
37 | 90.50 | 156.35 | 171.35 | 189.85 | 195.45 | 205.00 | 214.85 | 290.35
38 | 92.60 | 160.25 | 175.65 | 194.60 | 200.25 | 210.00 | 220.15 | 297.55
39 | 94.85 | 164.15 | 180.05 | 199.25 | 204.90 | 214.80 | 225.60 | 304.95
40 | 96.85 | 167.80 | 184.40 | 204.05 | 209.85 | 219.95 | 231.05 | 312.30
41 | 98.75 | 171.75 | 188.65 | 208.60 | 214.90 | 225.15 | 236.40 | 319.50
42 | 100.45 | 175.65 | 192.90 | 213.25 | 219.90 | 230.30 | 241.70 | 326.75
43 | 102.75 | 179.40 | 197.15 | 217.85 | 224.75 | 235.30 | 247.20 | 334.10
44 | 104.55 | 183.30 | 201.50 | 222.55 | 229.55 | 240.25 | 252.50 | 341.35
45 | 106.55 | 187.15 | 205.65 | 227.05 | 234.45 | 245.35 | 258.00 | 348.80
46 | 108.60 | 190.90 | 210.20 | 231.90 | 239.30 | 250.30 | 263.35 | 356.05
47 | 110.85 | 194.75 | 214.40 | 236.50 | 244.20 | 255.35 | 268.75 | 363.35
48 | 112.75 | 198.70 | 218.60 | 240.95 | 249.10 | 260.40 | 274.15 | 370.65
49 | 114.70 | 202.40 | 222.95 | 245.65 | 254.15 | 265.60 | 279.60 | 378.05
50 | 117.15 | 206.35 | 227.30 | 250.40 | 258.90 | 270.40 | 284.95 | 385.25
51 | 119.15 | 210.25 | 231.55 | 254.95 | 263.70 | 275.40 | 289.60 | 391.55
52 | 121.20 | 213.90 | 235.75 | 259.50 | 268.80 | 280.55 | 295.80 | 400.00
53 | 123.10 | 217.85 | 240.15 | 264.15 | 273.70 | 285.60 | 301.20 | 407.25
54 | 125.30 | 221.75 | 244.35 | 268.65 | 278.55 | 290.65 | 306.55 | 414.55
55 | 127.75 | 226.80 | 248.80 | 273.40 | 283.40 | 295.55 | 311.90 | 421.80
56 | 130.40 | 230.70 | 253.00 | 277.90 | 288.25 | 300.55 | 317.35 | 429.15
57 | 132.60 | 234.55 | 257.30 | 282.50 | 293.10 | 305.55 | 322.70 | 436.35
58 | 134.85 | 238.25 | 261.55 | 287.00 | 298.10 | 310.60 | 328.10 | 443.65
59 | 136.70 | 242.10 | 265.80 | 291.60 | 303.10 | 315.65 | 333.45 | 450.95
60 | 138.50 | 245.95 | 270.15 | 296.15 | 307.95 | 320.60 | 338.85 | 458.25
61 | 140.45 | 249.90 | 274.65 | 300.95 | 312.85 | 325.60 | 344.25 | 465.55
62 | 142.60 | 253.60 | 278.80 | 305.35 | 317.65 | 330.45 | 349.75 | 473.00
63 | 144.95 | 257.45 | 283.10 | 309.95 | 322.60 | 335.60 | 355.20 | 480.35
64 | 146.85 | 261.25 | 287.30 | 314.40 | 327.55 | 340.60 | 360.60 | 487.65
65 | 149.35 | 265.10 | 291.60 | 318.95 | 332.40 | 345.45 | 365.90 | 494.85
66 | 152.10 | 269.05 | 296.00 | 323.65 | 337.30 | 350.50 | 371.25 | 502.05
67 | 153.85 | 272.80 | 300.35 | 328.25 | 342.05 | 355.30 | 376.70 | 509.45
68 | 155.85 | 276.65 | 304.60 | 332.65 | 347.15 | 360.50 | 382.20 | 516.95
69 | 158.30 | 280.55 | 308.85 | 337.20 | 351.90 | 365.35 | 387.35 | 523.95
70 | 161.15 | 284.40 | 313.20 | 341.75 | 356.85 | 370.30 | 392.80 | 531.30

Commercial Base Flat Rate Envelope
| ($)
Commercial Base Regular Flat Rate Envelope, per piece | 24.25
Commercial Base Legal Flat Rate Envelope, per piece | 24.45
Commercial Base Padded Flat Rate Envelope, per piece | 24.75

* * *

Commercial Plus Zone/Weight
Maximum weight (pounds) | Local, Zones 1 & 2 ($) | Zone 3 ($) | Zone 4 ($) | Zone 5 ($) | Zone 6 ($) | Zone 7 ($) | Zone 8 ($) | Zone 9 ($)
0.5 | 24.25 | 24.80 | 25.55 | 27.85 | 29.75 | 31.55 | 33.95 | 45.45
1 | 24.50 | 26.70 | 28.95 | 32.70 | 35.15 | 37.15 | 39.55 | 53.00
2 | 24.75 | 28.55 | 32.40 | 37.50 | 40.55 | 42.70 | 45.10 | 60.55
3 | 25.00 | 30.45 | 35.80 | 42.35 | 45.90 | 48.30 | 50.70 | 68.05
4 | 25.25 | 32.30 | 39.25 | 47.15 | 51.30 | 53.85 | 56.25 | 75.60
5 | 25.50 | 34.20 | 42.65 | 52.00 | 56.70 | 59.45 | 61.85 | 83.15
6 | 27.95 | 37.45 | 47.20 | 57.05 | 61.90 | 65.05 | 67.65 | 91.00
7 | 30.40 | 40.70 | 51.80 | 62.10 | 67.10 | 70.65 | 73.45 | 98.85
8 | 32.90 | 44.00 | 56.35 | 67.10 | 72.25 | 76.25 | 79.25 | 106.70
9 | 35.35 | 47.25 | 60.95 | 72.15 | 77.45 | 81.85 | 85.05 | 114.55
10 | 37.80 | 50.50 | 65.50 | 77.20 | 82.65 | 87.45 | 90.85 | 122.40
11 | 39.70 | 54.40 | 69.40 | 81.10 | 86.40 | 91.40 | 95.05 | 128.05
12 | 41.60 | 58.30 | 73.25 | 85.05 | 90.20 | 95.35 | 99.20 | 133.70
13 | 43.55 | 62.20 | 77.15 | 88.95 | 93.95 | 99.30 | 103.40 | 139.40
14 | 45.45 | 66.10 | 81.05 | 92.90 | 97.70 | 103.25 | 107.55 | 145.05
15 | 47.35 | 70.00 | 84.95 | 96.80 | 101.50 | 107.15 | 111.70 | 150.70
16 | 49.25 | 73.85 | 88.80 | 100.70 | 105.25 | 111.10 | 115.90 | 156.35
17 | 51.15 | 77.75 | 92.70 | 104.65 | 109.00 | 115.05 | 120.05 | 162.00
18 | 53.10 | 81.65 | 96.60 | 108.55 | 112.75 | 119.00 | 124.25 | 167.70
19 | 55.00 | 85.55 | 100.45 | 112.50 | 116.55 | 122.95 | 128.40 | 173.35
20 | 56.90 | 89.45 | 104.35 | 116.40 | 120.30 | 126.90 | 132.60 | 179.00
21 | 58.85 | 93.40 | 108.25 | 120.65 | 124.65 | 131.40 | 137.35 | 185.45
22 | 60.85 | 97.35 | 112.15 | 124.95 | 129.00 | 135.95 | 142.10 | 191.90
23 | 62.80 | 101.30 | 116.00 | 129.20 | 133.30 | 140.45 | 146.90 | 198.35
24 | 64.80 | 105.25 | 119.90 | 133.50 | 137.65 | 144.95 | 151.65 | 204.75
25 | 66.75 | 109.20 | 123.80 | 137.75 | 142.00 | 149.45 | 156.40 | 211.20
26 | 68.70 | 113.15 | 127.70 | 142.00 | 146.35 | 154.00 | 161.15 | 217.65
27 | 70.70 | 117.10 | 131.60 | 146.30 | 150.70 | 158.50 | 165.90 | 224.10
28 | 72.65 | 121.05 | 135.45 | 150.55 | 155.00 | 163.00 | 170.70 | 230.55
29 | 74.65 | 125.00 | 139.35 | 154.85 | 159.35 | 167.50 | 175.45 | 237.00
30 | 76.60 | 128.95 | 143.25 | 159.10 | 163.70 | 172.05 | 180.20 | 243.45
31 | 78.55 | 132.90 | 147.15 | 163.35 | 168.05 | 176.55 | 184.95 | 249.90
32 | 80.55 | 136.85 | 151.05 | 167.65 | 172.40 | 181.05 | 189.70 | 256.30
33 | 82.50 | 140.80 | 154.90 | 171.90 | 176.70 | 185.55 | 194.50 | 262.75
34 | 84.50 | 144.75 | 158.80 | 176.20 | 181.05 | 190.10 | 199.25 | 269.20
35 | 86.45 | 148.70 | 162.70 | 180.45 | 185.40 | 194.60 | 204.00 | 275.65
36 | 88.65 | 152.60 | 167.10 | 185.25 | 190.45 | 199.80 | 209.40 | 283.00
37 | 90.50 | 156.35 | 171.35 | 189.85 | 195.45 | 205.00 | 214.85 | 290.35
38 | 92.60 | 160.25 | 175.65 | 194.60 | 200.25 | 210.00 | 220.15 | 297.55
39 | 94.85 | 164.15 | 180.05 | 199.25 | 204.90 | 214.80 | 225.60 | 304.95
40 | 96.85 | 167.80 | 184.40 | 204.05 | 209.85 | 219.95 | 231.05 | 312.30
41 | 98.75 | 171.75 | 188.65 | 208.60 | 214.90 | 225.15 | 236.40 | 319.50
42 | 100.45 | 175.65 | 192.90 | 213.25 | 219.90 | 230.30 | 241.70 | 326.75
43 | 102.75 | 179.40 | 197.15 | 217.85 | 224.75 | 235.30 | 247.20 | 334.10
44 | 104.55 | 183.30 | 201.50 | 222.55 | 229.55 | 240.25 | 252.50 | 341.35
45 | 106.55 | 187.15 | 205.65 | 227.05 | 234.45 | 245.35 | 258.00 | 348.80
46 | 108.60 | 190.90 | 210.20 | 231.90 | 239.30 | 250.30 | 263.35 | 356.05
47 | 110.85 | 194.75 | 214.40 | 236.50 | 244.20 | 255.35 | 268.75 | 363.35
48 | 112.75 | 198.70 | 218.60 | 240.95 | 249.10 | 260.40 | 274.15 | 370.65
49 | 114.70 | 202.40 | 222.95 | 245.65 | 254.15 | 265.60 | 279.60 | 378.05
50 | 117.15 | 206.35 | 227.30 | 250.40 | 258.90 | 270.40 | 284.95 | 385.25
51 | 119.15 | 210.25 | 231.55 | 254.95 | 263.70 | 275.40 | 289.60 | 391.55
52 | 121.20 | 213.90 | 235.75 | 259.50 | 268.80 | 280.55 | 295.80 | 400.00
53 | 123.10 | 217.85 | 240.15 | 264.15 | 273.70 | 285.60 | 301.20 | 407.25
54 | 125.30 | 221.75 | 244.35 | 268.65 | 278.55 | 290.65 | 306.55 | 414.55
55 | 127.75 | 226.80 | 248.80 | 273.40 | 283.40 | 295.55 | 311.90 | 421.80
56 | 130.40 | 230.70 | 253.00 | 277.90 | 288.25 | 300.55 | 317.35 | 429.15
57 | 132.60 | 234.55 | 257.30 | 282.50 | 293.10 | 305.55 | 322.70 | 436.35
58 | 134.85 | 238.25 | 261.55 | 287.00 | 298.10 | 310.60 | 328.10 | 443.65
59 | 136.70 | 242.10 | 265.80 | 291.60 | 303.10 | 315.65 | 333.45 | 450.95
60 | 138.50 | 245.95 | 270.15 | 296.15 | 307.95 | 320.60 | 338.85 | 458.25
61 | 140.45 | 249.90 | 274.65 | 300.95 | 312.85 | 325.60 | 344.25 | 465.55
62 | 142.60 | 253.60 | 278.80 | 305.35 | 317.65 | 330.45 | 349.75 | 473.00
63 | 144.95 | 257.45 | 283.10 | 309.95 | 322.60 | 335.60 | 355.20 | 480.35
64 | 146.85 | 261.25 | 287.30 | 314.40 | 327.55 | 340.60 | 360.60 | 487.65
65 | 149.35 | 265.10 | 291.60 | 318.95 | 332.40 | 345.45 | 365.90 | 494.85
66 | 152.10 | 269.05 | 296.00 | 323.65 | 337.30 | 350.50 | 371.25 | 502.05
67 | 153.85 | 272.80 | 300.35 | 328.25 | 342.05 | 355.30 | 376.70 | 509.45
68 | 155.85 | 276.65 | 304.60 | 332.65 | 347.15 | 360.50 | 382.20 | 516.95
69 | 158.30 | 280.55 | 308.85 | 337.20 | 351.90 | 365.35 | 387.35 | 523.95
70 | 161.15 | 284.40 | 313.20 | 341.75 | 356.85 | 370.30 | 392.80 | 531.30

Commercial Plus Flat Rate Envelope
| ($)
Commercial Plus Regular Flat Rate Envelope, per piece | 24.25
Commercial Plus Legal Flat Rate Envelope, per piece | 24.45
Commercial Plus Padded Flat Rate Envelope, per piece | 24.75

* * *

2110 Priority Mail

* * *

2110.6 Prices

* * *

Commercial Base Priority Mail Zone/Weight
Maximum weight (pounds) | Local, Zones 1 & 2 ($) | Zone 3 ($) | Zone 4 ($) | Zone 5 ($) | Zone 6 ($) | Zone 7 ($) | Zone 8 ($) | Zone 9 ($)
1 | 7.42 | 7.75 | 7.96 | 8.20 | 8.38 | 8.55 | 8.82 | 11.80
2 | 8.04 | 8.24 | 8.52 | 9.16 | 10.39 | 10.94 | 11.59 | 17.85
3 | 8.24 | 8.63 | 8.99 | 9.94 | 12.55 | 13.89 | 16.14 | 24.07
4 | 8.34 | 8.85 | 9.47 | 10.73 | 14.56 | 16.46 | 18.54 | 28.90
5 | 8.44 | 8.90 | 9.79 | 11.04 | 16.54 | 18.86 | 21.41 | 33.57
6 | 8.55 | 8.94 | 9.90 | 14.58 | 18.87 | 21.85 | 24.92 | 38.41
7 | 8.79 | 10.09 | 10.14 | 16.29 | 20.86 | 24.58 | 27.95 | 43.08
8 | 8.85 | 10.57 | 11.89 | 17.75 | 22.87 | 27.03 | 31.34 | 48.31
9 | 9.68 | 10.96 | 12.37 | 19.00 | 24.85 | 29.24 | 34.80 | 53.68
10 | 10.16 | 11.50 | 12.56 | 20.70 | 27.07 | 32.43 | 38.18 | 58.34
11 | 11.70 | 13.93 | 14.90 | 22.97 | 29.55 | 35.90 | 42.07 | 63.70
12 | 12.40 | 14.79 | 17.29 | 24.58 | 32.21 | 38.80 | 45.13 | 68.26
13 | 13.02 | 15.62 | 18.08 | 25.87 | 34.54 | 40.35 | 46.71 | 70.69
14 | 13.67 | 16.46 | 19.02 | 27.36 | 36.46 | 42.58 | 49.01 | 74.17
15 | 14.19 | 17.30 | 19.93 | 28.74 | 37.85 | 43.39 | 50.28 | 76.12
16 | 14.79 | 18.37 | 21.18 | 30.43 | 40.35 | 46.24 | 53.53 | 80.28
17 | 15.25 | 19.20 | 22.17 | 31.90 | 42.38 | 48.62 | 56.35 | 84.49
18 | 15.54 | 19.78 | 23.15 | 33.31 | 44.60 | 51.00 | 59.15 | 88.73
19 | 15.89 | 20.23 | 23.67 | 34.18 | 46.58 | 53.35 | 61.94 | 92.92
20 | 16.50 | 20.54 | 24.14 | 34.80 | 47.78 | 55.33 | 64.79 | 97.18
21 | 17.21 | 21.02 | 24.69 | 35.41 | 48.15 | 55.85 | 65.62 | 99.25
22 | 17.74 | 21.58 | 25.50 | 36.11 | 48.48 | 56.28 | 66.37 | 100.40
23 | 18.26 | 22.08 | 26.10 | 36.76 | 48.74 | 56.66 | 66.76 | 100.99
24 | 18.99 | 23.00 | 27.56 | 38.19 | 49.76 | 58.13 | 68.38 | 103.45
25 | 19.70 | 23.80 | 29.28 | 39.46 | 50.49 | 59.57 | 69.56 | 105.22
26 | 20.87 | 25.49 | 32.30 | 41.54 | 51.71 | 61.03 | 71.73 | 108.50
27 | 22.09 | 26.62 | 34.24 | 45.24 | 52.40 | 62.44 | 74.40 | 112.59
28 | 22.75 | 26.97 | 35.20 | 46.41 | 53.11 | 63.88 | 77.18 | 116.80
29 | 23.44 | 27.24 | 36.14 | 47.02 | 53.99 | 65.34 | 79.25 | 119.91
30 | 24.12 | 27.63 | 36.98 | 47.66 | 55.49 | 66.76 | 80.94 | 122.50
31 | 24.79 | 27.90 | 37.55 | 48.26 | 56.29 | 68.23 | 82.59 | 126.00
32 | 25.07 | 28.48 | 38.17 | 48.82 | 57.02 | 69.69 | 84.27 | 128.56
33 | 25.45 | 29.26 | 39.11 | 49.46 | 58.12 | 71.12 | 85.81 | 130.93
34 | 25.68 | 30.01 | 40.09 | 50.52 | 59.49 | 72.57 | 87.41 | 133.40
35 | 25.96 | 30.71 | 40.66 | 51.58 | 61.07 | 74.02 | 88.91 | 135.66
36 | 26.28 | 31.59 | 41.19 | 52.69 | 62.60 | 75.02 | 90.41 | 137.97
37 | 26.55 | 32.17 | 41.78 | 53.62 | 64.23 | 75.97 | 91.89 | 140.24
38 | 26.81 | 32.94 | 42.30 | 54.68 | 66.00 | 76.84 | 93.34 | 142.47
39 | 27.06 | 33.70 | 42.78 | 55.80 | 67.55 | 78.85 | 94.78 | 144.67
40 | 27.34 | 34.40 | 43.33 | 56.96 | 68.63 | 80.61 | 96.07 | 146.62
41 | 27.63 | 34.97 | 43.79 | 57.46 | 69.78 | 82.32 | 97.45 | 149.91
42 | 27.83 | 35.23 | 44.17 | 58.42 | 71.00 | 83.44 | 98.78 | 151.95
43 | 28.15 | 35.49 | 44.56 | 59.38 | 72.69 | 84.47 | 100.04 | 153.89
44 | 28.34 | 35.74 | 44.94 | 60.33 | 73.84 | 85.47 | 101.16 | 155.66
45 | 28.52 | 35.99 | 45.34 | 61.29 | 74.65 | 86.39 | 102.44 | 157.62
46 | 28.77 | 36.25 | 45.73 | 62.25 | 75.48 | 87.32 | 103.67 | 159.49
47 | 28.98 | 36.50 | 46.11 | 63.21 | 76.26 | 88.31 | 104.81 | 161.27
48 | 29.22 | 36.76 | 46.50 | 64.16 | 77.24 | 89.15 | 105.92 | 163.02
49 | 29.44 | 37.00 | 46.89 | 65.12 | 78.29 | 90.08 | 106.99 | 164.61
50 | 29.56 | 37.26 | 47.28 | 66.08 | 79.38 | 91.22 | 108.11 | 166.37
51 | 29.99 | 37.52 | 47.65 | 67.20 | 80.46 | 92.52 | 109.11 | 169.25
52 | 30.43 | 37.78 | 48.04 | 67.67 | 81.24 | 93.91 | 110.40 | 171.22
53 | 30.99 | 38.02 | 48.43 | 68.22 | 81.92 | 95.44 | 111.80 | 173.41
54 | 31.43 | 38.29 | 48.81 | 68.81 | 82.50 | 96.80 | 113.36 | 175.83
55 | 31.92 | 38.53 | 49.20 | 69.24 | 83.18 | 98.33 | 114.88 | 178.19
56 | 32.35 | 38.79 | 49.59 | 69.76 | 83.73 | 99.71 | 116.05 | 180.03
57 | 32.86 | 39.04 | 49.98 | 70.17 | 84.36 | 101.22 | 117.07 | 181.64
58 | 33.35 | 39.29 | 50.36 | 70.61 | 84.86 | 102.55 | 118.04 | 183.10
59 | 33.82 | 39.55 | 50.74 | 71.04 | 85.34 | 103.25 | 118.90 | 184.47
60 | 34.24 | 39.80 | 51.13 | 71.43 | 85.76 | 103.85 | 119.75 | 185.76
61 | 34.79 | 40.05 | 51.52 | 71.79 | 86.24 | 104.45 | 121.35 | 188.28
62 | 35.21 | 40.31 | 51.90 | 72.10 | 86.64 | 104.91 | 123.28 | 191.24
63 | 35.84 | 40.57 | 52.30 | 72.48 | 87.13 | 105.41 | 125.25 | 194.30
64 | 36.15 | 40.81 | 52.68 | 72.80 | 87.52 | 105.89 | 127.16 | 197.29
65 | 36.67 | 41.07 | 53.08 | 73.02 | 87.77 | 106.42 | 129.14 | 200.37
66 | 37.14 | 41.33 | 53.45 | 73.35 | 88.21 | 106.74 | 131.01 | 203.27
67 | 37.69 | 41.58 | 54.35 | 73.61 | 88.49 | 107.16 | 132.75 | 205.94
68 | 38.13 | 41.83 | 55.03 | 73.81 | 89.60 | 107.72 | 134.15 | 208.12
69 | 38.64 | 42.09 | 55.73 | 74.03 | 90.67 | 108.22 | 135.56 | 210.34
70 | 39.04 | 42.34 | 56.60 | 74.26 | 91.76 | 108.61 | 137.02 | 212.59

Commercial Base Flat Rate Envelope
| ($)
Commercial Base Regular Flat Rate Envelope, per piece | 7.55
Commercial Base Legal Flat Rate Envelope, per piece | 7.85
Commercial Base Padded Flat Rate Envelope, per piece | 8.15

Commercial Base Flat Rate Box
Size | Delivery to domestic address ($) | Delivery to APO/FPO/DPO address ($)
Small Flat Rate Box | 8.05 | 8.05
Regular Flat Rate Boxes | 13.60 | 13.60
Large Flat Rate Boxes | 18.70 | 17.20

Commercial Base Regional Rate Boxes
Size | Local, Zones 1 & 2 ($) | Zone 3 ($) | Zone 4 ($) | Zone 5 ($) | Zone 6 ($) | Zone 7 ($) | Zone 8 ($) | Zone 9 ($)
A | 8.08 | 8.32 | 8.61 | 9.32 | 10.82 | 11.53 | 12.50 | 19.09
B | 8.47 | 8.91 | 9.82 | 11.93 | 17.12 | 19.61 | 22.29 | 34.78

* * *

Commercial Plus Priority Mail Zone/Weight
Maximum weight (pounds) | Local, Zones 1 & 2 ($) | Zone 3 ($) | Zone 4 ($) | Zone 5 ($) | Zone 6 ($) | Zone 7 ($) | Zone 8 ($) | Zone 9 ($)
0.5 | 7.42 | 7.75 | 7.96 | 8.20 | 8.38 | 8.55 | 8.82 | 11.80
1 | 7.42 | 7.75 | 7.96 | 8.20 | 8.38 | 8.55 | 8.82 | 11.80
2 | 8.04 | 8.24 | 8.52 | 9.16 | 10.39 | 10.94 | 11.59 | 17.85
3 | 8.24 | 8.63 | 8.99 | 9.94 | 12.55 | 13.89 | 16.14 | 24.07
4 | 8.34 | 8.85 | 9.47 | 10.73 | 14.56 | 16.46 | 18.54 | 28.90
5 | 8.44 | 8.90 | 9.79 | 11.04 | 16.54 | 18.86 | 21.41 | 33.57
6 | 8.55 | 8.94 | 9.90 | 14.58 | 18.87 | 21.85 | 24.92 | 38.41
7 | 8.79 | 10.09 | 10.14 | 16.29 | 20.86 | 24.58 | 27.95 | 43.08
8 | 8.85 | 10.57 | 11.89 | 17.75 | 22.87 | 27.03 | 31.34 | 48.31
9 | 9.68 | 10.96 | 12.37 | 19.00 | 24.85 | 29.24 | 34.80 | 53.68
10 | 10.16 | 11.50 | 12.56 | 20.70 | 27.07 | 32.43 | 38.18 | 58.34
11 | 11.70 | 13.93 | 14.90 | 22.97 | 29.55 | 35.90 | 42.07 | 63.70
12 | 12.40 | 14.79 | 17.29 | 24.58 | 32.21 | 38.80 | 45.13 | 68.26
13 | 13.02 | 15.62 | 18.08 | 25.87 | 34.54 | 40.35 | 46.71 | 70.69
14 | 13.67 | 16.46 | 19.02 | 27.36 | 36.46 | 42.58 | 49.01 | 74.17
15 | 14.19 | 17.30 | 19.93 | 28.74 | 37.85 | 43.39 | 50.28 | 76.12
16 | 14.79 | 18.37 | 21.18 | 30.43 | 40.35 | 46.24 | 53.53 | 80.28
17 | 15.25 | 19.20 | 22.17 | 31.90 | 42.38 | 48.62 | 56.35 | 84.49
18 | 15.54 | 19.78 | 23.15 | 33.31 | 44.60 | 51.00 | 59.15 | 88.73
19 | 15.89 | 20.23 | 23.67 | 34.18 | 46.58 | 53.35 | 61.94 | 92.92
20 | 16.50 | 20.54 | 24.14 | 34.80 | 47.78 | 55.33 | 64.79 | 97.18
21 | 17.21 | 21.02 | 24.69 | 35.41 | 48.15 | 55.85 | 65.62 | 99.25
22 | 17.74 | 21.58 | 25.50 | 36.11 | 48.48 | 56.28 | 66.37 | 100.40
23 | 18.26 | 22.08 | 26.10 | 36.76 | 48.74 | 56.66 | 66.76 | 100.99
24 | 18.99 | 23.00 | 27.56 | 38.19 | 49.76 | 58.13 | 68.38 | 103.45
25 | 19.70 | 23.80 | 29.28 | 39.46 | 50.49 | 59.57 | 69.56 | 105.22
26 | 20.87 | 25.49 | 32.30 | 41.54 | 51.71 | 61.03 | 71.73 | 108.50
27 | 22.09 | 26.62 | 34.24 | 45.24 | 52.40 | 62.44 | 74.40 | 112.59
28 | 22.75 | 26.97 | 35.20 | 46.41 | 53.11 | 63.88 | 77.18 | 116.80
29 | 23.44 | 27.24 | 36.14 | 47.02 | 53.99 | 65.34 | 79.25 | 119.91
30 | 24.12 | 27.63 | 36.98 | 47.66 | 55.49 | 66.76 | 80.94 | 122.50
31 | 24.79 | 27.90 | 37.55 | 48.26 | 56.29 | 68.23 | 82.59 | 126.00
32 | 25.07 | 28.48 | 38.17 | 48.82 | 57.02 | 69.69 | 84.27 | 128.56
33 | 25.45 | 29.26 | 39.11 | 49.46 | 58.12 | 71.12 | 85.81 | 130.93
34 | 25.68 | 30.01 | 40.09 | 50.52 | 59.49 | 72.57 | 87.41 | 133.40
35 | 25.96 | 30.71 | 40.66 | 51.58 | 61.07 | 74.02 | 88.91 | 135.66
36 | 26.28 | 31.59 | 41.19 | 52.69 | 62.60 | 75.02 | 90.41 | 137.97
37 | 26.55 | 32.17 | 41.78 | 53.62 | 64.23 | 75.97 | 91.89 | 140.24
38 | 26.81 | 32.94 | 42.30 | 54.68 | 66.00 | 76.84 | 93.34 | 142.47
39 | 27.06 | 33.70 | 42.78 | 55.80 | 67.55 | 78.85 | 94.78 | 144.67
40 | 27.34 | 34.40 | 43.33 | 56.96 | 68.63 | 80.61 | 96.07 | 146.62
41 | 27.63 | 34.97 | 43.79 | 57.46 | 69.78 | 82.32 | 97.45 | 149.91
42 | 27.83 | 35.23 | 44.17 | 58.42 | 71.00 | 83.44 | 98.78 | 151.95
43 | 28.15 | 35.49 | 44.56 | 59.38 | 72.69 | 84.47 | 100.04 | 153.89
44 | 28.34 | 35.74 | 44.94 | 60.33 | 73.84 | 85.47 | 101.16 | 155.66
45 | 28.52 | 35.99 | 45.34 | 61.29 | 74.65 | 86.39 | 102.44 | 157.62
46 | 28.77 | 36.25 | 45.73 | 62.25 | 75.48 | 87.32 | 103.67 | 159.49
47 | 28.98 | 36.50 | 46.11 | 63.21 | 76.26 | 88.31 | 104.81 | 161.27
48 | 29.22 | 36.76 | 46.50 | 64.16 | 77.24 | 89.15 | 105.92 | 163.02
49 | 29.44 | 37.00 | 46.89 | 65.12 | 78.29 | 90.08 | 106.99 | 164.61
50 | 29.56 | 37.26 | 47.28 | 66.08 | 79.38 | 91.22 | 108.11 | 166.37
51 | 29.99 | 37.52 | 47.65 | 67.20 | 80.46 | 92.52 | 109.11 | 169.25
52 | 30.43 | 37.78 | 48.04 | 67.67 | 81.24 | 93.91 | 110.40 | 171.22
53 | 30.99 | 38.02 | 48.43 | 68.22 | 81.92 | 95.44 | 111.80 | 173.41
54 | 31.43 | 38.29 | 48.81 | 68.81 | 82.50 | 96.80 | 113.36 | 175.83
55 | 31.92 | 38.53 | 49.20 | 69.24 | 83.18 | 98.33 | 114.88 | 178.19
56 | 32.35 | 38.79 | 49.59 | 69.76 | 83.73 | 99.71 | 116.05 | 180.03
57 | 32.86 | 39.04 | 49.98 | 70.17 | 84.36 | 101.22 | 117.07 | 181.64
58 | 33.35 | 39.29 | 50.36 | 70.61 | 84.86 | 102.55 | 118.04 | 183.10
59 | 33.82 | 39.55 | 50.74 | 71.04 | 85.34 | 103.25 | 118.90 | 184.47
60 | 34.24 | 39.80 | 51.13 | 71.43 | 85.76 | 103.85 | 119.75 | 185.76
61 | 34.79 | 40.05 | 51.52 | 71.79 | 86.24 | 104.45 | 121.35 | 188.28
62 | 35.21 | 40.31 | 51.90 | 72.10 | 86.64 | 104.91 | 123.28 | 191.24
63 | 35.84 | 40.57 | 52.30 | 72.48 | 87.13 | 105.41 | 125.25 | 194.30
64 | 36.15 | 40.81 | 52.68 | 72.80 | 87.52 | 105.89 | 127.16 | 197.29
65 | 36.67 | 41.07 | 53.08 | 73.02 | 87.77 | 106.42 | 129.14 | 200.37
66 | 37.14 | 41.33 | 53.45 | 73.35 | 88.21 | 106.74 | 131.01 | 203.27
67 | 37.69 | 41.58 | 54.35 | 73.61 | 88.49 | 107.16 | 132.75 | 205.94
68 | 38.13 | 41.83 | 55.03 | 73.81 | 89.60 | 107.72 | 134.15 | 208.12
69 | 38.64 | 42.09 | 55.73 | 74.03 | 90.67 | 108.22 | 135.56 | 210.34
70 | 39.04 | 42.34 | 56.60 | 74.26 | 91.76 | 108.61 | 137.02 | 212.59

Commercial Plus Flat Rate Envelope
| ($)
Commercial Plus Regular Flat Rate Envelope, per piece | 7.55
Commercial Plus Legal Flat Rate Envelope, per piece | 7.85
Commercial Plus Padded Flat Rate Envelope, per piece | 8.15

Commercial Plus Flat Rate Box
Size | Delivery to domestic address ($) | Delivery to APO/FPO/DPO address ($)
Small Flat Rate Box | 8.05 | 8.05
Medium Flat Rate Boxes | 13.60 | 13.60
Large Flat Rate Boxes | 18.70 | 17.20

Commercial Plus Regional Rate Boxes
Maximum cubic feet | Local, Zones 1 & 2 ($) | Zone 3 ($) | Zone 4 ($) | Zone 5 ($) | Zone 6 ($) | Zone 7 ($) | Zone 8 ($) | Zone 9 ($)
A | 8.08 | 8.32 | 8.61 | 9.32 | 10.82 | 11.53 | 12.50 | 19.09
B | 8.47 | 8.91 | 9.82 | 11.93 | 17.12 | 19.61 | 22.29 | 34.78

* * *

Commercial Plus Cubic
Maximum cubic feet | Local, Zones 1 & 2 ($) | Zone 3 ($) | Zone 4 ($) | Zone 5 ($) | Zone 6 ($) | Zone 7 ($) | Zone 8 ($) | Zone 9 ($)
0.10 | 7.42 | 7.75 | 7.96 | 8.20 | 8.38 | 8.55 | 8.82 | 11.80
0.20 | 7.86 | 8.20 | 8.42 | 9.11 | 9.40 | 9.62 | 9.96 | 13.55
0.30 | 8.44 | 8.66 | 8.95 | 10.05 | 11.38 | 11.98 | 12.69 | 19.52
0.40 | 8.61 | 8.97 | 9.33 | 10.71 | 13.18 | 14.42 | 16.42 | 24.68
0.50 | 8.74 | 9.24 | 9.82 | 11.55 | 15.38 | 17.29 | 19.64 | 30.28

Open and Distribute (PMOD)

a. DDU

Container | Local, Zones 1 & 2 ($) | Zone 3 ($) | Zone 4 ($) | Zone 5 ($) | Zone 6 ($) | Zone 7 ($) | Zone 8 ($) | Zone 9 ($)
Half Tray | 8.89 | 10.79 | 12.96 | 20.60 | 20.87 | 22.65 | 25.10 | 31.28
Full Tray | 11.94 | 14.83 | 17.20 | 29.81 | 34.19 | 36.31 | 40.47 | 50.48
EMM Tray | 13.63 | 16.16 | 19.87 | 32.93 | 36.11 | 39.61 | 44.00 | 54.90
Flat Tub | 19.30 | 24.09 | 29.69 | 49.94 | 60.20 | 65.05 | 72.36 | 90.35

b. Processing Facilities

Container | Local, Zones 1 & 2 ($) | Zone 3 ($) | Zone 4 ($) | Zone 5 ($) | Zone 6 ($) | Zone 7 ($) | Zone 8 ($) | Zone 9 ($)
Half Tray | 7.13 | 8.92 | 10.86 | 18.64 | 19.04 | 20.79 | 22.29 | 27.77
Full Tray | 9.10 | 11.62 | 14.37 | 25.88 | 30.52 | 32.64 | 36.43 | 45.44
EMM Tray | 10.78 | 12.43 | 16.79 | 28.53 | 32.35 | 35.58 | 41.05 | 51.22
Flat Tub | 15.25 | 20.03 | 25.27 | 45.82 | 55.88 | 60.79 | 66.82 | 83.44

* * *

2115 Parcel Select

* * *

2115.6 Prices

Destination Entered—DDU

a. DDU

Maximum weight (pounds) | DDU ($)
1 | 3.43
2 | 3.53
3 | 3.64
4 | 3.74
5 | 3.82
6 | 3.91
7 | 4.01
8 | 4.10
9 | 4.19
10 | 4.27
11 | 4.35
12 | 4.43
13 | 4.51
14 | 4.59
15 | 4.68
16 | 4.76
17 | 4.84
18 | 4.97
19 | 5.05
20 | 5.18
21 | 6.45
22 | 6.48
23 | 6.51
24 | 6.54
25 | 6.57
26 | 6.60
27 | 6.63
28 | 6.66
29 | 6.69
30 | 6.72
31 | 6.75
32 | 6.78
33 | 6.81
34 | 6.84
35 | 6.87
36 | 6.90
37 | 6.93
38 | 6.96
39 | 6.99
40 | 7.02
41 | 7.05
42 | 7.08
43 | 7.11
44 | 7.14
45 | 7.17
46 | 7.34
47 | 7.41
48 | 7.49
49 | 7.56
50 | 7.64
51 | 7.71
52 | 7.78
53 | 7.86
54 | 7.93
55 | 8.00
56 | 8.08
57 | 8.15
58 | 8.23
59 | 8.30
60 | 8.38
61 | 8.47
62 | 8.55
63 | 8.64
64 | 8.72
65 | 8.81
66 | 8.89
67 | 8.98
68 | 9.06
69 | 9.14
70 | 9.23
Oversized | 13.01

* * *

Destination Entered—DSCF

a. DSCF—5-Digit Machinable

Maximum weight (pounds) | DSCF 5-digit ($)
1 | 4.77
2 | 4.95
3 | 5.12
4 | 5.30
5 | 5.44
6 | 5.67
7 | 5.79
8 | 5.96
9 | 6.13
10 | 6.31
11 | 6.48
12 | 6.65
13 | 6.82
14 | 7.00
15 | 7.17
16 | 7.34
17 | 7.52
18 | 7.69
19 | 7.86
20 | 8.03
21 | 8.21
22 | 8.38
23 | 8.55
24 | 8.72
25 | 8.90
26 | 9.07
27 | 9.24
28 | 9.41
29 | 9.59
30 | 9.77
31 | 9.95
32 | 10.13
33 | 10.32
34 | 10.50
35 | 10.68

b. DSCF—3-Digit, 5-Digit Non-Machinable

Maximum weight (pounds) | DSCF 3-digit ($) | DSCF 5-digit ($)
1 | 6.77 | 4.77
2 | 6.95 | 4.95
3 | 7.12 | 5.12
4 | 7.30 | 5.30
5 | 7.44 | 5.44
6 | 7.67 | 5.67
7 | 7.79 | 5.79
8 | 7.96 | 5.96
9 | 8.13 | 6.13
10 | 8.31 | 6.31
11 | 8.48 | 6.48
12 | 8.65 | 6.65
13 | 8.82 | 6.82
14 | 9.00 | 7.00
15 | 9.17 | 7.17
16 | 9.34 | 7.34
17 | 9.52 | 7.52
18 | 9.69 | 7.69
19 | 9.86 | 7.86
20 | 10.03 | 8.03
21 | 10.21 | 8.21
22 | 10.38 | 8.38
23 | 10.55 | 8.55
24 | 10.72 | 8.72
25 | 10.90 | 8.90
26 | 11.07 | 9.07
27 | 11.24 | 9.24
28 | 11.41 | 9.41
29 | 11.59 | 9.59
30 | 11.77 | 9.77
31 | 11.95 | 9.95
32 | 12.13 | 10.13
33 | 12.32 | 10.32
34 | 12.50 | 10.50
35 | 12.68 | 10.68
36 | 13.28 | 11.28
37 | 13.47 | 11.47
38 | 13.66 | 11.66
39 | 13.85 | 11.85
40 | 14.04 | 12.04
41 | 14.23 | 12.23
42 | 14.42 | 12.42
43 | 14.61 | 12.61
44 | 14.80 | 12.80
45 | 14.99 | 12.99
46 | 15.18 | 13.18
47 | 15.37 | 13.37
48 | 15.56 | 13.56
49 | 15.75 | 13.75
50 | 15.94 | 13.94
51 | 16.13 | 14.13
52 | 16.32 | 14.32
53 | 16.51 | 14.51
54 | 16.70 | 14.70
55 | 16.89 | 14.89
56 | 17.08 | 15.08
57 | 17.26 | 15.26
58 | 17.45 | 15.45
59 | 17.64 | 15.64
60 | 17.83 | 15.83
61 | 18.02 | 16.02
62 | 18.21 | 16.21
63 | 18.40 | 16.40
64 | 18.59 | 16.59
65 | 18.78 | 16.78
66 | 18.97 | 16.97
67 | 19.16 | 17.16
68 | 19.35 | 17.35
69 | 19.54 | 17.54
70 | 19.73 | 17.73
Oversized | 25.80 | 25.80

* * *

Destination Entered—DNDC

a. DNDC—Machinable

Maximum weight (pounds) | DNDC Zones 1 & 2 ($) | DNDC Zone 3 ($) | DNDC Zone 4 ($) | DNDC Zones 5 ($)
1 | 6.38 | 7.22 | 8.18 | 9.54
2 | 6.66 | 7.70 | 8.82 | 10.23
3 | 6.94 | 8.19 | 9.45 | 10.93
4 | 7.22 | 8.67 | 10.09 | 11.63
5 | 7.39 | 9.03 | 10.58 | 12.32
6 | 7.68 | 9.52 | 11.21 | 13.05
7 | 8.04 | 10.02 | 11.84 | 13.78
8 | 8.32 | 10.52 | 12.47 | 14.51
9 | 8.61 | 11.02 | 13.10 | 15.23
10 | 8.90 | 11.51 | 13.86 | 15.96
11 | 9.18 | 12.13 | 14.45 | 16.65
12 | 9.47 | 12.63 | 15.05 | 17.33
13 | 9.76 | 13.01 | 15.64 | 18.02
14 | 10.05 | 13.63 | 16.24 | 18.70
15 | 10.33 | 14.00 | 16.83 | 19.34
16 | 10.62 | 14.63 | 17.29 | 19.92
17 | 10.91 | 14.98 | 17.75 | 20.50
18 | 11.19 | 15.46 | 18.21 | 21.08
19 | 11.48 | 15.95 | 18.68 | 21.66
20 | 11.77 | 16.42 | 19.14 | 22.19
21 | 12.05 | 16.86 | 19.56 | 22.71
22 | 12.34 | 17.31 | 19.79 | 23.24
23 | 12.63 | 17.93 | 20.20 | 23.77
24 | 12.92 | 18.38 | 20.82 | 24.30
25 | 13.20 | 18.59 | 21.24 | 24.77
26 | 13.49 | 18.97 | 21.43 | 25.19
27 | 13.78 | 19.55 | 22.04 | 25.61
28 | 14.06 | 19.75 | 22.44 | 26.04
29 | 14.35 | 20.13 | 22.84 | 26.46
30 | 14.64 | 20.47 | 23.24 | 26.88
31 | 14.78 | 20.80 | 23.38 | 27.30
32 | 15.21 | 21.14 | 23.98 | 27.72
33 | 15.50 | 21.47 | 24.11 | 28.15
34 | 15.79 | 21.81 | 24.71 | 28.57
35 | 16.07 | 22.36 | 25.08 | 28.99

b. DNDC—Non-Machinable

Maximum weight (pounds) | DNDC Zones 1 & 2 ($) | DNDC Zone 3 ($) | DNDC Zone 4 ($) | DNDC Zones 5 ($)
1 | 9.38 | 10.22 | 11.18 | 12.54
2 | 9.66 | 10.70 | 11.82 | 13.23
3 | 9.94 | 11.19 | 12.45 | 13.93
4 | 10.22 | 11.67 | 13.09 | 14.63
5 | 10.39 | 12.03 | 13.58 | 15.32
6 | 10.68 | 12.52 | 14.21 | 16.05
7 | 11.04 | 13.02 | 14.84 | 16.78
8 | 11.32 | 13.52 | 15.47 | 17.51
9 | 11.61 | 14.02 | 16.10 | 18.23
10 | 11.90 | 14.51 | 16.86 | 18.96
11 | 12.18 | 15.13 | 17.45 | 19.65
12 | 12.47 | 15.63 | 18.05 | 20.33
13 | 12.76 | 16.01 | 18.64 | 21.02
14 | 13.05 | 16.63 | 19.24 | 21.70
15 | 13.33 | 17.00 | 19.83 | 22.34
16 | 13.62 | 17.63 | 20.29 | 22.92
17 | 13.91 | 17.98 | 20.75 | 23.50
18 | 14.19 | 18.46 | 21.21 | 24.08
19 | 14.48 | 18.95 | 21.68 | 24.66
20 | 14.77 | 19.42 | 22.14 | 25.19
21 | 15.05 | 19.86 | 22.56 | 25.71
22 | 15.34 | 20.31 | 22.79 | 26.24
23 | 15.63 | 20.93 | 23.20 | 26.77
24 | 15.92 | 21.38 | 23.82 | 27.30
25 | 16.20 | 21.59 | 24.24 | 27.77
26 | 16.49 | 21.97 | 24.43 | 28.19
27 | 16.78 | 22.55 | 25.04 | 28.61
28 | 17.06 | 22.75 | 25.44 | 29.04
29 | 17.35 | 23.13 | 25.84 | 29.46
30 | 17.64 | 23.47 | 26.24 | 29.88
31 | 17.78 | 23.80 | 26.38 | 30.30
32 | 18.21 | 24.14 | 26.98 | 30.72
33 | 18.50 | 24.47 | 27.11 | 31.15
34 | 18.79 | 24.81 | 27.71 | 31.57
35 | 19.07 | 25.36 | 28.08 | 31.99
36 | 19.99 | 26.51 | 29.34 | 32.58
37 | 20.29 | 26.86 | 29.71 | 33.00
38 | 20.58 | 27.21 | 30.08 | 33.42
39 | 20.88 | 27.56 | 30.45 | 33.84
40 | 21.17 | 27.90 | 30.82 | 34.24
41 | 21.47 | 28.25 | 31.17 | 34.65
42 | 21.76 | 28.60 | 31.53 | 35.05
43 | 22.06 | 28.95 | 31.89 | 35.45
44 | 22.35 | 29.30 | 32.25 | 35.85
45 | 22.65 | 29.64 | 32.61 | 36.25
46 | 22.95 | 29.99 | 32.97 | 36.65
47 | 23.24 | 30.34 | 33.33 | 37.05
48 | 23.54 | 30.69 | 33.69 | 37.45
49 | 23.83 | 31.04 | 34.04 | 37.85
50 | 24.12 | 31.37 | 34.40 | 38.23
51 | 24.40 | 31.71 | 34.74 | 38.61
52 | 24.69 | 32.05 | 35.08 | 38.99
53 | 24.97 | 32.39 | 35.42 | 39.37
54 | 25.26 | 32.73 | 35.75 | 39.75
55 | 25.54 | 33.05 | 36.09 | 40.13
56 | 25.83 | 33.37 | 36.43 | 40.51
57 | 26.11 | 33.69 | 36.77 | 40.89
58 | 26.40 | 34.00 | 37.10 | 41.27
59 | 26.68 | 34.32 | 37.44 | 41.65
60 | 26.96 | 34.63 | 37.78 | 42.01
61 | 27.25 | 34.95 | 38.10 | 42.37
62 | 27.53 | 35.27 | 38.41 | 42.73
63 | 27.82 | 35.58 | 38.73 | 43.09
64 | 28.10 | 35.90 | 39.04 | 43.44
65 | 28.39 | 36.22 | 39.36 | 43.80
66 | 28.67 | 36.52 | 39.68 | 44.14
67 | 28.96 | 36.83 | 39.99 | 44.48
68 | 29.24 | 37.14 | 40.31 | 44.82
69 | 29.53 | 37.44 | 40.63 | 45.15
70 | 29.81 | 37.75 | 40.94 | 45.49
Oversized | 40.11 | 53.54 | 63.75 | 73.54

* * * * *

Non-Destination Entered—Parcel Select Ground

a. Parcel Select Ground

Maximum weight (pounds) | Zones 1 & 2 ($) | Zone 3 ($) | Zone 4 ($) | Zone 5 ($) | Zone 6 ($) | Zone 7 ($) | Zone 8 ($)
1 | 7.32 | 7.65 | 7.86 | 8.05 | 8.18 | 8.30 | 8.52
2 | 7.94 | 8.14 | 8.42 | 9.01 | 10.19 | 10.69 | 11.29
3 | 8.14 | 8.53 | 8.89 | 9.74 | 12.30 | 13.59 | 15.79
4 | 8.24 | 8.75 | 9.37 | 10.53 | 14.31 | 16.16 | 18.19
5 | 8.34 | 8.80 | 9.69 | 10.84 | 16.29 | 18.56 | 21.06
6 | 8.45 | 8.84 | 9.80 | 14.38 | 18.62 | 21.55 | 24.57
7 | 8.69 | 9.99 | 10.04 | 16.09 | 20.61 | 24.28 | 27.60
8 | 8.75 | 10.47 | 11.79 | 17.55 | 22.62 | 26.73 | 30.99
9 | 9.58 | 10.86 | 12.27 | 18.80 | 24.60 | 28.94 | 34.45
10 | 10.06 | 11.40 | 12.46 | 20.50 | 26.82 | 32.13 | 37.83
11 | 11.60 | 13.83 | 14.80 | 22.77 | 29.30 | 35.60 | 41.72
12 | 12.30 | 14.69 | 17.19 | 24.38 | 31.96 | 38.50 | 44.78
13 | 12.92 | 15.52 | 17.98 | 25.67 | 34.29 | 40.05 | 46.36
14 | 13.57 | 16.36 | 18.92 | 27.16 | 36.21 | 42.28 | 48.66
15 | 14.09 | 17.20 | 19.83 | 28.54 | 37.60 | 43.09 | 49.93
16 | 14.69 | 18.27 | 21.08 | 30.23 | 40.10 | 45.94 | 53.18
17 | 15.15 | 19.10 | 22.07 | 31.70 | 42.13 | 48.32 | 56.00
18 | 15.44 | 19.68 | 23.05 | 33.11 | 44.35 | 50.70 | 58.80
19 | 15.79 | 20.13 | 23.57 | 33.98 | 46.33 | 53.05 | 61.10
20 | 16.40 | 20.44 | 24.04 | 34.60 | 47.53 | 55.03 | 64.10
21 | 17.11 | 20.92 | 24.59 | 35.21 | 47.90 | 55.55 | 65.27
22 | 17.64 | 21.48 | 25.40 | 35.91 | 48.23 | 55.98 | 66.02
23 | 18.16 | 21.98 | 26.00 | 36.56 | 48.49 | 56.36 | 66.41
24 | 18.89 | 22.90 | 27.46 | 37.99 | 49.51 | 57.83 | 68.03
25 | 19.60 | 23.70 | 29.18 | 39.26 | 50.24 | 59.27 | 69.21
26 | 20.77 | 25.39 | 32.20 | 41.34 | 51.46 | 60.73 | 71.38
27 | 21.99 | 26.52 | 34.14 | 45.04 | 52.15 | 62.14 | 74.05
28 | 22.65 | 26.87 | 35.10 | 46.21 | 52.86 | 63.58 | 76.83
29 | 23.34 | 27.14 | 36.04 | 46.82 | 53.74 | 65.04 | 78.90
30 | 24.02 | 27.53 | 36.88 | 47.46 | 55.24 | 66.46 | 80.59
31 | 24.69 | 27.80 | 37.45 | 48.06 | 56.04 | 67.93 | 82.24
32 | 24.97 | 28.38 | 38.07 | 48.62 | 56.77 | 69.39 | 83.92
33 | 25.35 | 29.16 | 39.01 | 49.26 | 57.87 | 70.82 | 85.46
34 | 25.58 | 29.91 | 39.99 | 50.32 | 59.24 | 72.27 | 87.06
35 | 25.86 | 30.61 | 40.56 | 51.38 | 60.82 | 73.72 | 88.56
36 | 26.18 | 31.49 | 41.09 | 52.49 | 62.35 | 74.72 | 90.06
37 | 26.45 | 32.07 | 41.68 | 53.42 | 63.98 | 75.67 | 91.54
38 | 26.71 | 32.84 | 42.20 | 54.48 | 65.75 | 76.54 | 92.99
39 | 26.96 | 33.60 | 42.68 | 55.60 | 67.30 | 78.55 | 94.43
40 | 27.24 | 34.30 | 43.23 | 56.76 | 68.38 | 80.31 | 95.72
41 | 27.53 | 34.87 | 43.69 | 57.26 | 69.53 | 82.02 | 97.10
42 | 27.73 | 35.13 | 44.07 | 58.22 | 70.75 | 83.14 | 98.43
43 | 28.05 | 35.39 | 44.46 | 59.18 | 72.44 | 84.17 | 99.69
44 | 28.24 | 35.64 | 44.84 | 60.13 | 73.59 | 85.17 | 100.81
45 | 28.42 | 35.89 | 45.24 | 61.09 | 74.40 | 86.09 | 102.09
46 | 28.67 | 36.15 | 45.63 | 62.05 | 75.23 | 87.02 | 103.32
47 | 28.88 | 36.40 | 46.01 | 63.01 | 76.01 | 88.01 | 104.46
48 | 29.12 | 36.66 | 46.40 | 63.96 | 76.99 | 88.85 | 105.57
49 | 29.34 | 36.90 | 46.79 | 64.92 | 78.04 | 89.78 | 106.64
50 | 29.46 | 37.16 | 47.18 | 65.88 | 79.13 | 90.92 | 107.76
51 | 29.89 | 37.42 | 47.55 | 67.00 | 80.21 | 92.22 | 108.76
52 | 30.33 | 37.68 | 47.94 | 67.47 | 80.99 | 93.61 | 110.05
53 | 30.89 | 37.92 | 48.33 | 68.02 | 81.67 | 95.14 | 111.45
54 | 31.33 | 38.19 | 48.71 | 68.61 | 82.25 | 96.50 | 113.01
55 | 31.82 | 38.43 | 49.10 | 69.04 | 82.93 | 98.03 | 114.53
56 | 32.25 | 38.69 | 49.49 | 69.56 | 83.48 | 99.41 | 115.70
57 | 32.76 | 38.94 | 49.88 | 69.97 | 84.11 | 100.92 | 116.72
58 | 33.25 | 39.19 | 50.26 | 70.41 | 84.61 | 102.25 | 117.69
59 | 33.72 | 39.45 | 50.64 | 70.84 | 85.09 | 102.95 | 118.55
60 | 34.14 | 39.70 | 51.03 | 71.23 | 85.51 | 103.55 | 119.40
61 | 34.69 | 39.95 | 51.42 | 71.59 | 85.99 | 104.15 | 121.00
62 | 35.11 | 40.21 | 51.80 | 71.90 | 86.39 | 104.61 | 122.93
63 | 35.74 | 40.47 | 52.20 | 72.28 | 86.88 | 105.11 | 124.90
64 | 36.05 | 40.71 | 52.58 | 72.60 | 87.27 | 105.59 | 126.81
65 | 36.57 | 40.97 | 52.98 | 72.82 | 87.52 | 106.12 | 128.79
66 | 37.04 | 41.23 | 53.35 | 73.15 | 87.96 | 106.44 | 130.66
67 | 37.59 | 41.48 | 54.25 | 73.41 | 88.24 | 106.86 | 132.40
68 | 38.03 | 41.73 | 54.93 | 73.61 | 89.35 | 107.42 | 133.80
69 | 38.54 | 41.99 | 55.63 | 73.83 | 90.42 | 107.92 | 135.21
70 | 38.94 | 42.24 | 56.50 | 74.06 | 91.51 | 108.31 | 136.67
Oversized | 76.95 | 97.85 | 118.75 | 139.65 | 160.55 | 181.45 | 202.35

* * *

Parcel Select Lightweight
Maximum weight (ounces) | Entry point/sortation level: DDU/5-digit ($) | Entry point/sortation level: DSCF/5-digit ($) | Entry point/sortation level: DNDC/5-digit ($) | Entry point/sortation level: DSCF/SCF ($) | Entry point/sortation level: DNDC/SCF ($) | Entry point/sortation level: DNDC/NDC ($) | Entry point/sortation level: None/NDC ($) | Entry point/sortation level: None/mixed NDC/single- piece ($)
1 | 2.05 | 2.35 | 2.57 | 2.58 | 2.96 | 3.21 | 3.58 | 3.97
2 | 2.05 | 2.35 | 2.57 | 2.58 | 2.96 | 3.21 | 3.58 | 3.97
3 | 2.05 | 2.35 | 2.57 | 2.58 | 2.96 | 3.21 | 3.58 | 3.97
4 | 2.05 | 2.35 | 2.57 | 2.58 | 2.96 | 3.21 | 3.58 | 3.97
5 | 2.06 | 2.38 | 2.62 | 2.64 | 3.07 | 3.33 | 3.72 | 4.12
6 | 2.06 | 2.38 | 2.62 | 2.64 | 3.07 | 3.33 | 3.72 | 4.12
7 | 2.06 | 2.38 | 2.62 | 2.64 | 3.07 | 3.33 | 3.72 | 4.12
8 | 2.06 | 2.38 | 2.62 | 2.64 | 3.07 | 3.33 | 3.72 | 4.12
9 | 2.18 | 2.61 | 3.12 | 3.16 | 3.66 | 3.98 | 4.41 | 4.84
10 | 2.18 | 2.61 | 3.12 | 3.16 | 3.66 | 3.98 | 4.41 | 4.84
11 | 2.18 | 2.61 | 3.12 | 3.16 | 3.66 | 3.98 | 4.41 | 4.84
12 | 2.18 | 2.61 | 3.12 | 3.16 | 3.66 | 3.98 | 4.41 | 4.84
13 | 2.36 | 2.89 | 3.56 | 3.62 | 4.16 | 4.49 | 4.93 | 5.39
14 | 2.36 | 2.89 | 3.56 | 3.62 | 4.16 | 4.49 | 4.93 | 5.39
15 | 2.36 | 2.89 | 3.56 | 3.62 | 4.16 | 4.49 | 4.93 | 5.39
15.999 | 2.36 | 2.89 | 3.56 | 3.62 | 4.16 | 4.49 | 4.93 | 5.39

* * *

* * * * *

2120 Parcel Return Service

* * *

2120.6 Prices

RSCF Entered

a. Machinable RSCF

Maximum weight (pounds) | RSCF ($)
1 | 4.07
2 | 4.57
3 | 4.89
4 | 5.24
5 | 5.62
6 | 6.15
7 | 6.56
8 | 7.08
9 | 7.55
10 | 8.06
11 | 8.52
12 | 9.10
13 | 9.50
14 | 9.82
15 | 10.17
16 | 10.50
17 | 10.87
18 | 11.17
19 | 11.46
20 | 11.84
21 | 12.14
22 | 12.50
23 | 12.74
24 | 13.13
25 | 13.40
26 | 13.69
27 | 14.00
28 | 14.27
29 | 14.59
30 | 14.84
31 | 15.15
32 | 15.46
33 | 15.71
34 | 16.12
35 | 16.39

b. Nonmachinable RSCF

Maximum weight (pounds) | RSCF ($)
1 | 7.07
2 | 7.57
3 | 7.89
4 | 8.24
5 | 8.62
6 | 9.15
7 | 9.56
8 | 10.08
9 | 10.55
10 | 11.06
11 | 11.52
12 | 12.10
13 | 12.50
14 | 12.82
15 | 13.17
16 | 13.50
17 | 13.87
18 | 14.17
19 | 14.46
20 | 14.84
21 | 15.14
22 | 15.50
23 | 15.74
24 | 16.13
25 | 16.40
26 | 16.69
27 | 17.00
28 | 17.27
29 | 17.59
30 | 17.84
31 | 18.15
32 | 18.46
33 | 18.71
34 | 19.12
35 | 19.39
36 | 19.68
37 | 19.94
38 | 20.19
39 | 20.45
40 | 20.70
41 | 20.96
42 | 21.21
43 | 21.47
44 | 21.72
45 | 21.98
46 | 22.23
47 | 22.49
48 | 22.74
49 | 23.00
50 | 23.25
51 | 23.51
52 | 23.76
53 | 24.02
54 | 24.27
55 | 24.53
56 | 24.78
57 | 25.04
58 | 25.29
59 | 25.55
60 | 25.80
61 | 26.06
62 | 26.31
63 | 26.57
64 | 26.82
65 | 27.08
66 | 27.33
67 | 27.59
68 | 27.84
69 | 28.10
70 | 28.19
Oversized | 39.86

* * *

RDU Entered

a. Machinable RDU

Maximum weight (pounds) | RDU ($)
1 | 3.29
2 | 3.38
3 | 3.46
4 | 3.56
5 | 3.64
6 | 3.74
7 | 3.82
8 | 3.90
9 | 4.00
10 | 4.08
11 | 4.18
12 | 4.26
13 | 4.36
14 | 4.44
15 | 4.52
16 | 4.62
17 | 4.70
18 | 4.80
19 | 4.88
20 | 4.98
21 | 5.06
22 | 5.14
23 | 5.24
24 | 5.32
25 | 5.42
26 | 5.48
27 | 5.57
28 | 5.66
29 | 5.75
30 | 5.84
31 | 5.93
32 | 6.01
33 | 6.10
34 | 6.19
35 | 6.28

b. Nonmachinable RDU

Maximum weight (pounds) | RDU ($)
1 | 3.29
2 | 3.38
3 | 3.46
4 | 3.56
5 | 3.64
6 | 3.74
7 | 3.82
8 | 3.90
9 | 4.00
10 | 4.08
11 | 4.18
12 | 4.26
13 | 4.36
14 | 4.44
15 | 4.52
16 | 4.62
17 | 4.70
18 | 4.80
19 | 4.88
20 | 4.98
21 | 5.06
22 | 5.14
23 | 5.24
24 | 5.32
25 | 5.42
26 | 5.48
27 | 5.57
28 | 5.66
29 | 5.75
30 | 5.84
31 | 5.93
32 | 6.01
33 | 6.10
34 | 6.19
35 | 6.28
36 | 6.37
37 | 6.46
38 | 6.54
39 | 6.63
40 | 6.72
41 | 6.81
42 | 6.90
43 | 6.99
44 | 7.07
45 | 7.16
46 | 7.25
47 | 7.34
48 | 7.43
49 | 7.52
50 | 7.60
51 | 7.69
52 | 7.78
53 | 7.87
54 | 7.96
55 | 8.05
56 | 8.13
57 | 8.22
58 | 8.31
59 | 8.40
60 | 8.49
61 | 8.58
62 | 8.66
63 | 8.75
64 | 8.84
65 | 8.93
66 | 9.02
67 | 9.10
68 | 9.19
69 | 9.28
70 | 9.37
Oversized | 12.30

* * *

2125 First-Class Package Service

* * *

2125.6 Prices

Commercial
Maximum weight (ounces) | Local, zones 1 & 2 ($) | Zone 3 ($) | Zone 4 ($) | Zone 5 ($) | Zone 6 ($) | Zone 7 ($) | Zone 8 ($)
1 | 2.99 | 3.01 | 3.03 | 3.09 | 3.18 | 3.30 | 3.43
2 | 2.99 | 3.01 | 3.03 | 3.09 | 3.18 | 3.30 | 3.43
3 | 2.99 | 3.01 | 3.03 | 3.09 | 3.18 | 3.30 | 3.43
4 | 2.99 | 3.01 | 3.03 | 3.09 | 3.18 | 3.30 | 3.43
5 | 3.46 | 3.48 | 3.5 | 3.56 | 3.64 | 3.77 | 3.92
6 | 3.46 | 3.48 | 3.5 | 3.56 | 3.64 | 3.77 | 3.92
7 | 3.46 | 3.48 | 3.5 | 3.56 | 3.64 | 3.77 | 3.92
8 | 3.46 | 3.48 | 3.5 | 3.56 | 3.64 | 3.77 | 3.92
9 | 4.18 | 4.22 | 4.25 | 4.33 | 4.43 | 4.57 | 4.71
10 | 4.18 | 4.22 | 4.25 | 4.33 | 4.43 | 4.57 | 4.71
11 | 4.18 | 4.22 | 4.25 | 4.33 | 4.43 | 4.57 | 4.71
12 | 4.18 | 4.22 | 4.25 | 4.33 | 4.43 | 4.57 | 4.71
13 | 5.29 | 5.33 | 5.37 | 5.52 | 5.65 | 5.79 | 5.95
14 | 5.29 | 5.33 | 5.37 | 5.52 | 5.65 | 5.79 | 5.95
15 | 5.29 | 5.33 | 5.37 | 5.52 | 5.65 | 5.79 | 5.95
15.999 | 5.29 | 5.33 | 5.37 | 5.52 | 5.65 | 5.79 | 5.95

* * *

Part B

Competitive Products

2000 Competitive Product List

2100 Domestic Products

* * *

* * *

2105 Priority Mail Express

* * *

2105.6 Prices

* * *

Commercial Base Zone/Weight
Maximum weight (pounds) | Local, zones 1 & 2 ($) | Zone 3 ($) | Zone 4 ($) | Zone 5 ($) | Zone 6 ($) | Zone 7 ($) | Zone 8 ($) | Zone 9 ($)
0.5 | 22.75 | 23.30 | 24.05 | 26.35 | 28.25 | 30.05 | 32.45 | 43.95
1 | 23.00 | 25.20 | 27.45 | 31.20 | 33.65 | 35.65 | 38.05 | 51.50
2 | 23.25 | 27.05 | 30.90 | 36.00 | 39.05 | 41.20 | 43.60 | 59.05
3 | 23.50 | 28.95 | 34.30 | 40.85 | 44.40 | 46.80 | 49.20 | 66.55
4 | 23.75 | 30.80 | 37.75 | 45.65 | 49.80 | 52.35 | 54.75 | 74.10
5 | 24.00 | 32.70 | 41.15 | 50.50 | 55.20 | 57.95 | 60.35 | 81.65
6 | 26.45 | 35.95 | 45.70 | 55.55 | 60.40 | 63.55 | 66.15 | 89.50
7 | 28.90 | 39.20 | 50.30 | 60.60 | 65.60 | 69.15 | 71.95 | 97.35
8 | 31.40 | 42.50 | 54.85 | 65.60 | 70.75 | 74.75 | 77.75 | 105.20
9 | 33.85 | 45.75 | 59.45 | 70.65 | 75.95 | 80.35 | 83.55 | 113.05
10 | 36.30 | 49.00 | 64.00 | 75.70 | 81.15 | 85.95 | 89.35 | 120.90
11 | 38.20 | 52.90 | 67.90 | 79.60 | 84.90 | 89.90 | 93.55 | 126.55
12 | 40.10 | 56.80 | 71.75 | 83.55 | 88.70 | 93.85 | 97.70 | 132.20
13 | 42.05 | 60.70 | 75.65 | 87.45 | 92.45 | 97.80 | 101.90 | 137.90
14 | 43.95 | 64.60 | 79.55 | 91.40 | 96.20 | 101.75 | 106.05 | 143.55
15 | 45.85 | 68.50 | 83.45 | 95.30 | 100.00 | 105.65 | 110.20 | 149.20
16 | 47.75 | 72.35 | 87.30 | 99.20 | 103.75 | 109.60 | 114.40 | 154.85
17 | 49.65 | 76.25 | 91.20 | 103.15 | 107.50 | 113.55 | 118.55 | 160.50
18 | 51.60 | 80.15 | 95.10 | 107.05 | 111.25 | 117.50 | 122.75 | 166.20
19 | 53.50 | 84.05 | 98.95 | 111.00 | 115.05 | 121.45 | 126.90 | 171.85
20 | 55.40 | 87.95 | 102.85 | 114.90 | 118.80 | 125.40 | 131.10 | 177.50
21 | 57.35 | 91.90 | 106.75 | 119.15 | 123.15 | 129.90 | 135.85 | 183.95
22 | 59.35 | 95.85 | 110.65 | 123.45 | 127.50 | 134.45 | 140.60 | 190.40
23 | 61.30 | 99.80 | 114.50 | 127.70 | 131.80 | 138.95 | 145.40 | 196.85
24 | 63.30 | 103.75 | 118.40 | 132.00 | 136.15 | 143.45 | 150.15 | 203.25
25 | 65.25 | 107.70 | 122.30 | 136.25 | 140.50 | 147.95 | 154.90 | 209.70
26 | 67.20 | 111.65 | 126.20 | 140.50 | 144.85 | 152.50 | 159.65 | 216.15
27 | 69.20 | 115.60 | 130.10 | 144.80 | 149.20 | 157.00 | 164.40 | 222.60
28 | 71.15 | 119.55 | 133.95 | 149.05 | 153.50 | 161.50 | 169.20 | 229.05
29 | 73.15 | 123.50 | 137.85 | 153.35 | 157.85 | 166.00 | 173.95 | 235.50
30 | 75.10 | 127.45 | 141.75 | 157.60 | 162.20 | 170.55 | 178.70 | 241.95
31 | 77.05 | 131.40 | 145.65 | 161.85 | 166.55 | 175.05 | 183.45 | 248.40
32 | 79.05 | 135.35 | 149.55 | 166.15 | 170.90 | 179.55 | 188.20 | 254.80
33 | 81.00 | 139.30 | 153.40 | 170.40 | 175.20 | 184.05 | 193.00 | 261.25
34 | 83.00 | 143.25 | 157.30 | 174.70 | 179.55 | 188.60 | 197.75 | 267.70
35 | 84.95 | 147.20 | 161.20 | 178.95 | 183.90 | 193.10 | 202.50 | 274.15
36 | 87.15 | 151.10 | 165.60 | 183.75 | 188.95 | 198.30 | 207.90 | 281.50
37 | 89.00 | 154.85 | 169.85 | 188.35 | 193.95 | 203.50 | 213.35 | 288.85
38 | 91.10 | 158.75 | 174.15 | 193.10 | 198.75 | 208.50 | 218.65 | 296.05
39 | 93.35 | 162.65 | 178.55 | 197.75 | 203.40 | 213.30 | 224.10 | 303.45
40 | 95.35 | 166.30 | 182.90 | 202.55 | 208.35 | 218.45 | 229.55 | 310.80
41 | 97.25 | 170.25 | 187.15 | 207.10 | 213.40 | 223.65 | 234.90 | 318.00
42 | 98.95 | 174.15 | 191.40 | 211.75 | 218.40 | 228.80 | 240.20 | 325.25
43 | 101.25 | 177.90 | 195.65 | 216.35 | 223.25 | 233.80 | 245.70 | 332.60
44 | 103.05 | 181.80 | 200.00 | 221.05 | 228.05 | 238.75 | 251.00 | 339.85
45 | 105.05 | 185.65 | 204.15 | 225.55 | 232.95 | 243.85 | 256.50 | 347.30
46 | 107.10 | 189.40 | 208.70 | 230.40 | 237.80 | 248.80 | 261.85 | 354.55
47 | 109.35 | 193.25 | 212.90 | 235.00 | 242.70 | 253.85 | 267.25 | 361.85
48 | 111.25 | 197.20 | 217.10 | 239.45 | 247.60 | 258.90 | 272.65 | 369.15
49 | 113.20 | 200.90 | 221.45 | 244.15 | 252.65 | 264.10 | 278.10 | 376.55
50 | 115.65 | 204.85 | 225.80 | 248.90 | 257.40 | 268.90 | 283.45 | 383.75
51 | 117.65 | 208.75 | 230.05 | 253.45 | 262.20 | 273.90 | 288.10 | 390.05
52 | 119.70 | 212.40 | 234.25 | 258.00 | 267.30 | 279.05 | 294.30 | 398.50
53 | 121.60 | 216.35 | 238.65 | 262.65 | 272.20 | 284.10 | 299.70 | 405.75
54 | 123.80 | 220.25 | 242.85 | 267.15 | 277.05 | 289.15 | 305.05 | 413.05
55 | 126.25 | 225.30 | 247.30 | 271.90 | 281.90 | 294.05 | 310.40 | 420.30
56 | 128.90 | 229.20 | 251.50 | 276.40 | 286.75 | 299.05 | 315.85 | 427.65
57 | 131.10 | 233.05 | 255.80 | 281.00 | 291.60 | 304.05 | 321.20 | 434.85
58 | 133.35 | 236.75 | 260.05 | 285.50 | 296.60 | 309.10 | 326.60 | 442.15
59 | 135.20 | 240.60 | 264.30 | 290.10 | 301.60 | 314.15 | 331.95 | 449.45
60 | 137.00 | 244.45 | 268.65 | 294.65 | 306.45 | 319.10 | 337.35 | 456.75
61 | 138.95 | 248.40 | 273.15 | 299.45 | 311.35 | 324.10 | 342.75 | 464.05
62 | 141.10 | 252.10 | 277.30 | 303.85 | 316.15 | 328.95 | 348.25 | 471.50
63 | 143.45 | 255.95 | 281.60 | 308.45 | 321.10 | 334.10 | 353.70 | 478.85
64 | 145.35 | 259.75 | 285.80 | 312.90 | 326.05 | 339.10 | 359.10 | 486.15
65 | 147.85 | 263.60 | 290.10 | 317.45 | 330.90 | 343.95 | 364.40 | 493.35
66 | 150.60 | 267.55 | 294.50 | 322.15 | 335.80 | 349.00 | 369.75 | 500.55
67 | 152.35 | 271.30 | 298.85 | 326.75 | 340.55 | 353.80 | 375.20 | 507.95
68 | 154.35 | 275.15 | 303.10 | 331.15 | 345.65 | 359.00 | 380.70 | 515.45
69 | 156.80 | 279.05 | 307.35 | 335.70 | 350.40 | 363.85 | 385.85 | 522.45
70 | 159.65 | 282.90 | 311.70 | 340.25 | 355.35 | 368.80 | 391.30 | 529.80

Commercial Base Flat Rate Envelope
| ($)
Commercial Base Regular Flat Rate Envelope, per piece | 22.75
Commercial Base Legal Flat Rate Envelope, per piece | 22.95
Commercial Base Padded Flat Rate Envelope, per piece | 23.25

* * *

Commercial Plus Zone/Weight
Maximum weight (pounds) | Local, zones 1 & 2 ($) | Zone 3 ($) | Zone 4 ($) | Zone 5 ($) | Zone 6 ($) | Zone 7 ($) | Zone 8 ($) | Zone 9 ($)
0.5 | 22.75 | 23.30 | 24.05 | 26.35 | 28.25 | 30.05 | 32.45 | 43.95
1 | 23.00 | 25.20 | 27.45 | 31.20 | 33.65 | 35.65 | 38.05 | 51.50
2 | 23.25 | 27.05 | 30.90 | 36.00 | 39.05 | 41.20 | 43.60 | 59.05
3 | 23.50 | 28.95 | 34.30 | 40.85 | 44.40 | 46.80 | 49.20 | 66.55
4 | 23.75 | 30.80 | 37.75 | 45.65 | 49.80 | 52.35 | 54.75 | 74.10
5 | 24.00 | 32.70 | 41.15 | 50.50 | 55.20 | 57.95 | 60.35 | 81.65
6 | 26.45 | 35.95 | 45.70 | 55.55 | 60.40 | 63.55 | 66.15 | 89.50
7 | 28.90 | 39.20 | 50.30 | 60.60 | 65.60 | 69.15 | 71.95 | 97.35
8 | 31.40 | 42.50 | 54.85 | 65.60 | 70.75 | 74.75 | 77.75 | 105.20
9 | 33.85 | 45.75 | 59.45 | 70.65 | 75.95 | 80.35 | 83.55 | 113.05
10 | 36.30 | 49.00 | 64.00 | 75.70 | 81.15 | 85.95 | 89.35 | 120.90
11 | 38.20 | 52.90 | 67.90 | 79.60 | 84.90 | 89.90 | 93.55 | 126.55
12 | 40.10 | 56.80 | 71.75 | 83.55 | 88.70 | 93.85 | 97.70 | 132.20
13 | 42.05 | 60.70 | 75.65 | 87.45 | 92.45 | 97.80 | 101.90 | 137.90
14 | 43.95 | 64.60 | 79.55 | 91.40 | 96.20 | 101.75 | 106.05 | 143.55
15 | 45.85 | 68.50 | 83.45 | 95.30 | 100.00 | 105.65 | 110.20 | 149.20
16 | 47.75 | 72.35 | 87.30 | 99.20 | 103.75 | 109.60 | 114.40 | 154.85
17 | 49.65 | 76.25 | 91.20 | 103.15 | 107.50 | 113.55 | 118.55 | 160.50
18 | 51.60 | 80.15 | 95.10 | 107.05 | 111.25 | 117.50 | 122.75 | 166.20
19 | 53.50 | 84.05 | 98.95 | 111.00 | 115.05 | 121.45 | 126.90 | 171.85
20 | 55.40 | 87.95 | 102.85 | 114.90 | 118.80 | 125.40 | 131.10 | 177.50
21 | 57.35 | 91.90 | 106.75 | 119.15 | 123.15 | 129.90 | 135.85 | 183.95
22 | 59.35 | 95.85 | 110.65 | 123.45 | 127.50 | 134.45 | 140.60 | 190.40
23 | 61.30 | 99.80 | 114.50 | 127.70 | 131.80 | 138.95 | 145.40 | 196.85
24 | 63.30 | 103.75 | 118.40 | 132.00 | 136.15 | 143.45 | 150.15 | 203.25
25 | 65.25 | 107.70 | 122.30 | 136.25 | 140.50 | 147.95 | 154.90 | 209.70
26 | 67.20 | 111.65 | 126.20 | 140.50 | 144.85 | 152.50 | 159.65 | 216.15
27 | 69.20 | 115.60 | 130.10 | 144.80 | 149.20 | 157.00 | 164.40 | 222.60
28 | 71.15 | 119.55 | 133.95 | 149.05 | 153.50 | 161.50 | 169.20 | 229.05
29 | 73.15 | 123.50 | 137.85 | 153.35 | 157.85 | 166.00 | 173.95 | 235.50
30 | 75.10 | 127.45 | 141.75 | 157.60 | 162.20 | 170.55 | 178.70 | 241.95
31 | 77.05 | 131.40 | 145.65 | 161.85 | 166.55 | 175.05 | 183.45 | 248.40
32 | 79.05 | 135.35 | 149.55 | 166.15 | 170.90 | 179.55 | 188.20 | 254.80
33 | 81.00 | 139.30 | 153.40 | 170.40 | 175.20 | 184.05 | 193.00 | 261.25
34 | 83.00 | 143.25 | 157.30 | 174.70 | 179.55 | 188.60 | 197.75 | 267.70
35 | 84.95 | 147.20 | 161.20 | 178.95 | 183.90 | 193.10 | 202.50 | 274.15
36 | 87.15 | 151.10 | 165.60 | 183.75 | 188.95 | 198.30 | 207.90 | 281.50
37 | 89.00 | 154.85 | 169.85 | 188.35 | 193.95 | 203.50 | 213.35 | 288.85
38 | 91.10 | 158.75 | 174.15 | 193.10 | 198.75 | 208.50 | 218.65 | 296.05
39 | 93.35 | 162.65 | 178.55 | 197.75 | 203.40 | 213.30 | 224.10 | 303.45
40 | 95.35 | 166.30 | 182.90 | 202.55 | 208.35 | 218.45 | 229.55 | 310.80
41 | 97.25 | 170.25 | 187.15 | 207.10 | 213.40 | 223.65 | 234.90 | 318.00
42 | 98.95 | 174.15 | 191.40 | 211.75 | 218.40 | 228.80 | 240.20 | 325.25
43 | 101.25 | 177.90 | 195.65 | 216.35 | 223.25 | 233.80 | 245.70 | 332.60
44 | 103.05 | 181.80 | 200.00 | 221.05 | 228.05 | 238.75 | 251.00 | 339.85
45 | 105.05 | 185.65 | 204.15 | 225.55 | 232.95 | 243.85 | 256.50 | 347.30
46 | 107.10 | 189.40 | 208.70 | 230.40 | 237.80 | 248.80 | 261.85 | 354.55
47 | 109.35 | 193.25 | 212.90 | 235.00 | 242.70 | 253.85 | 267.25 | 361.85
48 | 111.25 | 197.20 | 217.10 | 239.45 | 247.60 | 258.90 | 272.65 | 369.15
49 | 113.20 | 200.90 | 221.45 | 244.15 | 252.65 | 264.10 | 278.10 | 376.55
50 | 115.65 | 204.85 | 225.80 | 248.90 | 257.40 | 268.90 | 283.45 | 383.75
51 | 117.65 | 208.75 | 230.05 | 253.45 | 262.20 | 273.90 | 288.10 | 390.05
52 | 119.70 | 212.40 | 234.25 | 258.00 | 267.30 | 279.05 | 294.30 | 398.50
53 | 121.60 | 216.35 | 238.65 | 262.65 | 272.20 | 284.10 | 299.70 | 405.75
54 | 123.80 | 220.25 | 242.85 | 267.15 | 277.05 | 289.15 | 305.05 | 413.05
55 | 126.25 | 225.30 | 247.30 | 271.90 | 281.90 | 294.05 | 310.40 | 420.30
56 | 128.90 | 229.20 | 251.50 | 276.40 | 286.75 | 299.05 | 315.85 | 427.65
57 | 131.10 | 233.05 | 255.80 | 281.00 | 291.60 | 304.05 | 321.20 | 434.85
58 | 133.35 | 236.75 | 260.05 | 285.50 | 296.60 | 309.10 | 326.60 | 442.15
59 | 135.20 | 240.60 | 264.30 | 290.10 | 301.60 | 314.15 | 331.95 | 449.45
60 | 137.00 | 244.45 | 268.65 | 294.65 | 306.45 | 319.10 | 337.35 | 456.75
61 | 138.95 | 248.40 | 273.15 | 299.45 | 311.35 | 324.10 | 342.75 | 464.05
62 | 141.10 | 252.10 | 277.30 | 303.85 | 316.15 | 328.95 | 348.25 | 471.50
63 | 143.45 | 255.95 | 281.60 | 308.45 | 321.10 | 334.10 | 353.70 | 478.85
64 | 145.35 | 259.75 | 285.80 | 312.90 | 326.05 | 339.10 | 359.10 | 486.15
65 | 147.85 | 263.60 | 290.10 | 317.45 | 330.90 | 343.95 | 364.40 | 493.35
66 | 150.60 | 267.55 | 294.50 | 322.15 | 335.80 | 349.00 | 369.75 | 500.55
67 | 152.35 | 271.30 | 298.85 | 326.75 | 340.55 | 353.80 | 375.20 | 507.95
68 | 154.35 | 275.15 | 303.10 | 331.15 | 345.65 | 359.00 | 380.70 | 515.45
69 | 156.80 | 279.05 | 307.35 | 335.70 | 350.40 | 363.85 | 385.85 | 522.45
70 | 159.65 | 282.90 | 311.70 | 340.25 | 355.35 | 368.80 | 391.30 | 529.80

Commercial Plus Flat Rate Envelope
| ($)
Commercial Plus Regular Flat Rate Envelope, per piece | 22.75
Commercial Plus Legal Flat Rate Envelope, per piece | 22.95
Commercial Plus Padded Flat Rate Envelope, per piece | 23.25

* * *

2110 Priority Mail

* * *

2110.6 Prices

* * *

Commercial Base Priority Mail Zone/Weight
Maximum weight (pounds) | Local, zones 1 & 2 ($) | Zone 3 ($) | Zone 4 ($) | Zone 5 ($) | Zone 6 ($) | Zone 7 ($) | Zone 8 ($) | Zone 9 ($)
1 | 7.02 | 7.35 | 7.56 | 7.80 | 7.98 | 8.15 | 8.42 | 11.40
2 | 7.64 | 7.84 | 8.12 | 8.76 | 9.99 | 10.54 | 11.19 | 17.45
3 | 7.84 | 8.23 | 8.59 | 9.54 | 12.15 | 13.49 | 15.74 | 23.67
4 | 7.94 | 8.45 | 9.07 | 10.33 | 14.16 | 16.06 | 18.14 | 28.50
5 | 8.04 | 8.50 | 9.39 | 10.64 | 16.14 | 18.46 | 21.01 | 33.17
6 | 8.15 | 8.54 | 9.50 | 14.18 | 18.47 | 21.45 | 24.52 | 38.01
7 | 8.39 | 9.69 | 9.74 | 15.89 | 20.46 | 24.18 | 27.55 | 42.68
8 | 8.45 | 10.17 | 11.49 | 17.35 | 22.47 | 26.63 | 30.94 | 47.91
9 | 9.28 | 10.56 | 11.97 | 18.60 | 24.45 | 28.84 | 34.40 | 53.28
10 | 9.76 | 11.10 | 12.16 | 20.30 | 26.67 | 32.03 | 37.78 | 57.94
11 | 11.30 | 13.53 | 14.50 | 22.57 | 29.15 | 35.50 | 41.67 | 63.30
12 | 12.00 | 14.39 | 16.89 | 24.18 | 31.81 | 38.40 | 44.73 | 67.86
13 | 12.62 | 15.22 | 17.68 | 25.47 | 34.14 | 39.95 | 46.31 | 70.29
14 | 13.27 | 16.06 | 18.62 | 26.96 | 36.06 | 42.18 | 48.61 | 73.77
15 | 13.79 | 16.90 | 19.53 | 28.34 | 37.45 | 42.99 | 49.88 | 75.72
16 | 14.39 | 17.97 | 20.78 | 30.03 | 39.95 | 45.84 | 53.13 | 79.88
17 | 14.85 | 18.80 | 21.77 | 31.50 | 41.98 | 48.22 | 55.95 | 84.09
18 | 15.14 | 19.38 | 22.75 | 32.91 | 44.20 | 50.60 | 58.75 | 88.33
19 | 15.49 | 19.83 | 23.27 | 33.78 | 46.18 | 52.95 | 61.54 | 92.52
20 | 16.10 | 20.14 | 23.74 | 34.40 | 47.38 | 54.93 | 64.39 | 96.78
21 | 16.81 | 20.62 | 24.29 | 35.01 | 47.75 | 55.45 | 65.22 | 98.85
22 | 17.34 | 21.18 | 25.10 | 35.71 | 48.08 | 55.88 | 65.97 | 100.00
23 | 17.86 | 21.68 | 25.70 | 36.36 | 48.34 | 56.26 | 66.36 | 100.59
24 | 18.59 | 22.60 | 27.16 | 37.79 | 49.36 | 57.73 | 67.98 | 103.05
25 | 19.30 | 23.40 | 28.88 | 39.06 | 50.09 | 59.17 | 69.16 | 104.82
26 | 20.47 | 25.09 | 31.90 | 41.14 | 51.31 | 60.63 | 71.33 | 108.10
27 | 21.69 | 26.22 | 33.84 | 44.84 | 52.00 | 62.04 | 74.00 | 112.19
28 | 22.35 | 26.57 | 34.80 | 46.01 | 52.71 | 63.48 | 76.78 | 116.40
29 | 23.04 | 26.84 | 35.74 | 46.62 | 53.59 | 64.94 | 78.85 | 119.51
30 | 23.72 | 27.23 | 36.58 | 47.26 | 55.09 | 66.36 | 80.54 | 122.10
31 | 24.39 | 27.50 | 37.15 | 47.86 | 55.89 | 67.83 | 82.19 | 125.60
32 | 24.67 | 28.08 | 37.77 | 48.42 | 56.62 | 69.29 | 83.87 | 128.16
33 | 25.05 | 28.86 | 38.71 | 49.06 | 57.72 | 70.72 | 85.41 | 130.53
34 | 25.28 | 29.61 | 39.69 | 50.12 | 59.09 | 72.17 | 87.01 | 133.00
35 | 25.56 | 30.31 | 40.26 | 51.18 | 60.67 | 73.62 | 88.51 | 135.26
36 | 25.88 | 31.19 | 40.79 | 52.29 | 62.20 | 74.62 | 90.01 | 137.57
37 | 26.15 | 31.77 | 41.38 | 53.22 | 63.83 | 75.57 | 91.49 | 139.84
38 | 26.41 | 32.54 | 41.90 | 54.28 | 65.60 | 76.44 | 92.94 | 142.07
39 | 26.66 | 33.30 | 42.38 | 55.40 | 67.15 | 78.45 | 94.38 | 144.27
40 | 26.94 | 34.00 | 42.93 | 56.56 | 68.23 | 80.21 | 95.67 | 146.22
41 | 27.23 | 34.57 | 43.39 | 57.06 | 69.38 | 81.92 | 97.05 | 149.51
42 | 27.43 | 34.83 | 43.77 | 58.02 | 70.60 | 83.04 | 98.38 | 151.55
43 | 27.75 | 35.09 | 44.16 | 58.98 | 72.29 | 84.07 | 99.64 | 153.49
44 | 27.94 | 35.34 | 44.54 | 59.93 | 73.44 | 85.07 | 100.76 | 155.26
45 | 28.12 | 35.59 | 44.94 | 60.89 | 74.25 | 85.99 | 102.04 | 157.22
46 | 28.37 | 35.85 | 45.33 | 61.85 | 75.08 | 86.92 | 103.27 | 159.09
47 | 28.58 | 36.10 | 45.71 | 62.81 | 75.86 | 87.91 | 104.41 | 160.87
48 | 28.82 | 36.36 | 46.10 | 63.76 | 76.84 | 88.75 | 105.52 | 162.62
49 | 29.04 | 36.60 | 46.49 | 64.72 | 77.89 | 89.68 | 106.59 | 164.21
50 | 29.16 | 36.86 | 46.88 | 65.68 | 78.98 | 90.82 | 107.71 | 165.97
51 | 29.59 | 37.12 | 47.25 | 66.80 | 80.06 | 92.12 | 108.71 | 168.85
52 | 30.03 | 37.38 | 47.64 | 67.27 | 80.84 | 93.51 | 110.00 | 170.82
53 | 30.59 | 37.62 | 48.03 | 67.82 | 81.52 | 95.04 | 111.40 | 173.01
54 | 31.03 | 37.89 | 48.41 | 68.41 | 82.10 | 96.40 | 112.96 | 175.43
55 | 31.52 | 38.13 | 48.80 | 68.84 | 82.78 | 97.93 | 114.48 | 177.79
56 | 31.95 | 38.39 | 49.19 | 69.36 | 83.33 | 99.31 | 115.65 | 179.63
57 | 32.46 | 38.64 | 49.58 | 69.77 | 83.96 | 100.82 | 116.67 | 181.24
58 | 32.95 | 38.89 | 49.96 | 70.21 | 84.46 | 102.15 | 117.64 | 182.70
59 | 33.42 | 39.15 | 50.34 | 70.64 | 84.94 | 102.85 | 118.50 | 184.07
60 | 33.84 | 39.40 | 50.73 | 71.03 | 85.36 | 103.45 | 119.35 | 185.36
61 | 34.39 | 39.65 | 51.12 | 71.39 | 85.84 | 104.05 | 120.95 | 187.88
62 | 34.81 | 39.91 | 51.50 | 71.70 | 86.24 | 104.51 | 122.88 | 190.84
63 | 35.44 | 40.17 | 51.90 | 72.08 | 86.73 | 105.01 | 124.85 | 193.90
64 | 35.75 | 40.41 | 52.28 | 72.40 | 87.12 | 105.49 | 126.76 | 196.89
65 | 36.27 | 40.67 | 52.68 | 72.62 | 87.37 | 106.02 | 128.74 | 199.97
66 | 36.74 | 40.93 | 53.05 | 72.95 | 87.81 | 106.34 | 130.61 | 202.87
67 | 37.29 | 41.18 | 53.95 | 73.21 | 88.09 | 106.76 | 132.35 | 205.54
68 | 37.73 | 41.43 | 54.63 | 73.41 | 89.20 | 107.32 | 133.75 | 207.72
69 | 38.24 | 41.69 | 55.33 | 73.63 | 90.27 | 107.82 | 135.16 | 209.94
70 | 38.64 | 41.94 | 56.20 | 73.86 | 91.36 | 108.21 | 136.62 | 212.19

Commercial Base Flat Rate Envelope
| ($)
Commercial Base Regular Flat Rate Envelope, per piece | 7.15
Commercial Base Legal Flat Rate Envelope, per piece | 7.45
Commercial Base Padded Flat Rate Envelope, per piece | 7.75

Commercial Base Flat Rate Box
Size | Delivery to domestic address ($) | Delivery to APO/FPO/DPO address ($)
Small Flat Rate Box | 7.65 | 7.65
Regular Flat Rate Boxes | 13.20 | 13.20
Large Flat Rate Boxes | 18.30 | 16.80

Commercial Base Regional Rate Boxes
Size | Local, zones 1 & 2 ($) | Zone 3 ($) | Zone 4 ($) | Zone 5 ($) | Zone 6 ($) | Zone 7 ($) | Zone 8 ($) | Zone 9 ($)
A | 7.68 | 7.92 | 8.21 | 8.92 | 10.42 | 11.13 | 12.10 | 18.69
B | 8.07 | 8.51 | 9.42 | 11.53 | 16.72 | 19.21 | 21.89 | 34.38

* * *

Commercial Plus Priority Mail Zone/Weight
Maximum weight (pounds) | Local, zones 1 & 2 ($) | Zone 3 ($) | Zone 4 ($) | Zone 5 ($) | Zone 6 ($) | Zone 7 ($) | Zone 8 ($) | Zone 9 ($)
0.5 | 7.02 | 7.35 | 7.56 | 7.80 | 7.98 | 8.15 | 8.42 | 11.40
1 | 7.02 | 7.35 | 7.56 | 7.80 | 7.98 | 8.15 | 8.42 | 11.40
2 | 7.64 | 7.84 | 8.12 | 8.76 | 9.99 | 10.54 | 11.19 | 17.45
3 | 7.84 | 8.23 | 8.59 | 9.54 | 12.15 | 13.49 | 15.74 | 23.67
4 | 7.94 | 8.45 | 9.07 | 10.33 | 14.16 | 16.06 | 18.14 | 28.50
5 | 8.04 | 8.50 | 9.39 | 10.64 | 16.14 | 18.46 | 21.01 | 33.17
6 | 8.15 | 8.54 | 9.50 | 14.18 | 18.47 | 21.45 | 24.52 | 38.01
7 | 8.39 | 9.69 | 9.74 | 15.89 | 20.46 | 24.18 | 27.55 | 42.68
8 | 8.45 | 10.17 | 11.49 | 17.35 | 22.47 | 26.63 | 30.94 | 47.91
9 | 9.28 | 10.56 | 11.97 | 18.60 | 24.45 | 28.84 | 34.40 | 53.28
10 | 9.76 | 11.10 | 12.16 | 20.30 | 26.67 | 32.03 | 37.78 | 57.94
11 | 11.30 | 13.53 | 14.50 | 22.57 | 29.15 | 35.50 | 41.67 | 63.30
12 | 12.00 | 14.39 | 16.89 | 24.18 | 31.81 | 38.40 | 44.73 | 67.86
13 | 12.62 | 15.22 | 17.68 | 25.47 | 34.14 | 39.95 | 46.31 | 70.29
14 | 13.27 | 16.06 | 18.62 | 26.96 | 36.06 | 42.18 | 48.61 | 73.77
15 | 13.79 | 16.90 | 19.53 | 28.34 | 37.45 | 42.99 | 49.88 | 75.72
16 | 14.39 | 17.97 | 20.78 | 30.03 | 39.95 | 45.84 | 53.13 | 79.88
17 | 14.85 | 18.80 | 21.77 | 31.50 | 41.98 | 48.22 | 55.95 | 84.09
18 | 15.14 | 19.38 | 22.75 | 32.91 | 44.20 | 50.60 | 58.75 | 88.33
19 | 15.49 | 19.83 | 23.27 | 33.78 | 46.18 | 52.95 | 61.54 | 92.52
20 | 16.10 | 20.14 | 23.74 | 34.40 | 47.38 | 54.93 | 64.39 | 96.78
21 | 16.81 | 20.62 | 24.29 | 35.01 | 47.75 | 55.45 | 65.22 | 98.85
22 | 17.34 | 21.18 | 25.10 | 35.71 | 48.08 | 55.88 | 65.97 | 100.00
23 | 17.86 | 21.68 | 25.70 | 36.36 | 48.34 | 56.26 | 66.36 | 100.59
24 | 18.59 | 22.60 | 27.16 | 37.79 | 49.36 | 57.73 | 67.98 | 103.05
25 | 19.30 | 23.40 | 28.88 | 39.06 | 50.09 | 59.17 | 69.16 | 104.82
26 | 20.47 | 25.09 | 31.90 | 41.14 | 51.31 | 60.63 | 71.33 | 108.10
27 | 21.69 | 26.22 | 33.84 | 44.84 | 52.00 | 62.04 | 74.00 | 112.19
28 | 22.35 | 26.57 | 34.80 | 46.01 | 52.71 | 63.48 | 76.78 | 116.40
29 | 23.04 | 26.84 | 35.74 | 46.62 | 53.59 | 64.94 | 78.85 | 119.51
30 | 23.72 | 27.23 | 36.58 | 47.26 | 55.09 | 66.36 | 80.54 | 122.10
31 | 24.39 | 27.50 | 37.15 | 47.86 | 55.89 | 67.83 | 82.19 | 125.60
32 | 24.67 | 28.08 | 37.77 | 48.42 | 56.62 | 69.29 | 83.87 | 128.16
33 | 25.05 | 28.86 | 38.71 | 49.06 | 57.72 | 70.72 | 85.41 | 130.53
34 | 25.28 | 29.61 | 39.69 | 50.12 | 59.09 | 72.17 | 87.01 | 133.00
35 | 25.56 | 30.31 | 40.26 | 51.18 | 60.67 | 73.62 | 88.51 | 135.26
36 | 25.88 | 31.19 | 40.79 | 52.29 | 62.20 | 74.62 | 90.01 | 137.57
37 | 26.15 | 31.77 | 41.38 | 53.22 | 63.83 | 75.57 | 91.49 | 139.84
38 | 26.41 | 32.54 | 41.90 | 54.28 | 65.60 | 76.44 | 92.94 | 142.07
39 | 26.66 | 33.30 | 42.38 | 55.40 | 67.15 | 78.45 | 94.38 | 144.27
40 | 26.94 | 34.00 | 42.93 | 56.56 | 68.23 | 80.21 | 95.67 | 146.22
41 | 27.23 | 34.57 | 43.39 | 57.06 | 69.38 | 81.92 | 97.05 | 149.51
42 | 27.43 | 34.83 | 43.77 | 58.02 | 70.60 | 83.04 | 98.38 | 151.55
43 | 27.75 | 35.09 | 44.16 | 58.98 | 72.29 | 84.07 | 99.64 | 153.49
44 | 27.94 | 35.34 | 44.54 | 59.93 | 73.44 | 85.07 | 100.76 | 155.26
45 | 28.12 | 35.59 | 44.94 | 60.89 | 74.25 | 85.99 | 102.04 | 157.22
46 | 28.37 | 35.85 | 45.33 | 61.85 | 75.08 | 86.92 | 103.27 | 159.09
47 | 28.58 | 36.10 | 45.71 | 62.81 | 75.86 | 87.91 | 104.41 | 160.87
48 | 28.82 | 36.36 | 46.10 | 63.76 | 76.84 | 88.75 | 105.52 | 162.62
49 | 29.04 | 36.60 | 46.49 | 64.72 | 77.89 | 89.68 | 106.59 | 164.21
50 | 29.16 | 36.86 | 46.88 | 65.68 | 78.98 | 90.82 | 107.71 | 165.97
51 | 29.59 | 37.12 | 47.25 | 66.80 | 80.06 | 92.12 | 108.71 | 168.85
52 | 30.03 | 37.38 | 47.64 | 67.27 | 80.84 | 93.51 | 110.00 | 170.82
53 | 30.59 | 37.62 | 48.03 | 67.82 | 81.52 | 95.04 | 111.40 | 173.01
54 | 31.03 | 37.89 | 48.41 | 68.41 | 82.10 | 96.40 | 112.96 | 175.43
55 | 31.52 | 38.13 | 48.80 | 68.84 | 82.78 | 97.93 | 114.48 | 177.79
56 | 31.95 | 38.39 | 49.19 | 69.36 | 83.33 | 99.31 | 115.65 | 179.63
57 | 32.46 | 38.64 | 49.58 | 69.77 | 83.96 | 100.82 | 116.67 | 181.24
58 | 32.95 | 38.89 | 49.96 | 70.21 | 84.46 | 102.15 | 117.64 | 182.70
59 | 33.42 | 39.15 | 50.34 | 70.64 | 84.94 | 102.85 | 118.50 | 184.07
60 | 33.84 | 39.40 | 50.73 | 71.03 | 85.36 | 103.45 | 119.35 | 185.36
61 | 34.39 | 39.65 | 51.12 | 71.39 | 85.84 | 104.05 | 120.95 | 187.88
62 | 34.81 | 39.91 | 51.50 | 71.70 | 86.24 | 104.51 | 122.88 | 190.84
63 | 35.44 | 40.17 | 51.90 | 72.08 | 86.73 | 105.01 | 124.85 | 193.90
64 | 35.75 | 40.41 | 52.28 | 72.40 | 87.12 | 105.49 | 126.76 | 196.89
65 | 36.27 | 40.67 | 52.68 | 72.62 | 87.37 | 106.02 | 128.74 | 199.97
66 | 36.74 | 40.93 | 53.05 | 72.95 | 87.81 | 106.34 | 130.61 | 202.87
67 | 37.29 | 41.18 | 53.95 | 73.21 | 88.09 | 106.76 | 132.35 | 205.54
68 | 37.73 | 41.43 | 54.63 | 73.41 | 89.20 | 107.32 | 133.75 | 207.72
69 | 38.24 | 41.69 | 55.33 | 73.63 | 90.27 | 107.82 | 135.16 | 209.94
70 | 38.64 | 41.94 | 56.20 | 73.86 | 91.36 | 108.21 | 136.62 | 212.19

Commercial Plus Flat Rate Envelope
| ($)
Commercial Plus Regular Flat Rate Envelope, per piece | 7.15
Commercial Plus Legal Flat Rate Envelope, per piece | 7.45
Commercial Plus Padded Flat Rate Envelope, per piece | 7.75

Commercial Plus Flat Rate Box
Size | Delivery to domestic address ($) | Delivery to APO/FPO/DPO address ($)
Small Flat Rate Box | 7.65 | 7.65
Medium Flat Rate Boxes | 13.20 | 13.20
Large Flat Rate Boxes | 18.30 | 16.80

Commercial Plus Regional Rate Boxes
Maximum cubic feet | Local, zones 1 & 2 ($) | Zone 3 ($) | Zone 4 ($) | Zone 5 ($) | Zone 6 ($) | Zone 7 ($) | Zone 8 ($) | Zone 9 ($)
A | 7.68 | 7.92 | 8.21 | 8.92 | 10.42 | 11.13 | 12.10 | 18.69
B | 8.07 | 8.51 | 9.42 | 11.53 | 16.72 | 19.21 | 21.89 | 34.38

* * *

Commercial Plus Cubic
Maximum cubic feet | Local, zones 1 & 2 ($) | Zone 3 ($) | Zone 4 ($) | Zone 5 ($) | Zone 6 ($) | Zone 7 ($) | Zone 8 ($) | Zone 9 ($)
0.10 | 7.02 | 7.35 | 7.56 | 7.80 | 7.98 | 8.15 | 8.42 | 11.40
0.20 | 7.46 | 7.80 | 8.02 | 8.71 | 9.00 | 9.22 | 9.56 | 13.15
0.30 | 8.04 | 8.26 | 8.55 | 9.65 | 10.98 | 11.58 | 12.29 | 19.12
0.40 | 8.21 | 8.57 | 8.93 | 10.31 | 12.78 | 14.02 | 16.02 | 24.28
0.50 | 8.34 | 8.84 | 9.42 | 11.15 | 14.98 | 16.89 | 19.24 | 29.88

Open and Distribute (PMOD)

a. DDU

Container | Local, zones 1 & 2 ($) | Zone 3 ($) | Zone 4 ($) | Zone 5 ($) | Zone 6 ($) | Zone 7 ($) | Zone 8 ($) | Zone 9 ($)
Half Tray | 8.49 | 10.39 | 12.56 | 20.20 | 20.47 | 22.25 | 24.70 | 30.88
Full Tray | 11.54 | 14.43 | 16.80 | 29.41 | 33.79 | 35.91 | 40.07 | 50.08
EMM Tray | 13.23 | 15.76 | 19.47 | 32.53 | 35.71 | 39.21 | 43.60 | 54.50
Flat Tub | 18.90 | 23.69 | 29.29 | 49.54 | 59.80 | 64.65 | 71.96 | 89.95

b. Processing Facilities

Container | Local, zones 1 & 2 ($) | Zone 3 ($) | Zone 4 ($) | Zone 5 ($) | Zone 6 ($) | Zone 7 ($) | Zone 8 ($) | Zone 9 ($)
Half Tray | 6.73 | 8.52 | 10.46 | 18.24 | 18.64 | 20.39 | 21.89 | 27.37
Full Tray | 8.70 | 11.22 | 13.97 | 25.48 | 30.12 | 32.24 | 36.03 | 45.04
EMM Tray | 10.38 | 12.03 | 16.39 | 28.13 | 31.95 | 35.18 | 40.65 | 50.82
Flat Tub | 14.85 | 19.63 | 24.87 | 45.42 | 55.48 | 60.39 | 66.42 | 83.04

* * *

2115 Parcel Select

* * *

2115.6 Prices

Destination Entered—DDU

a. DDU

Maximum weight (pounds) | DDU ($)
1 | 3.19
2 | 3.29
3 | 3.40
4 | 3.50
5 | 3.58
6 | 3.67
7 | 3.77
8 | 3.86
9 | 3.95
10 | 4.03
11 | 4.11
12 | 4.19
13 | 4.27
14 | 4.35
15 | 4.44
16 | 4.52
17 | 4.60
18 | 4.73
19 | 4.81
20 | 4.94
21 | 6.21
22 | 6.24
23 | 6.27
24 | 6.30
25 | 6.33
26 | 6.36
27 | 6.39
28 | 6.42
29 | 6.45
30 | 6.48
31 | 6.51
32 | 6.54
33 | 6.57
34 | 6.60
35 | 6.63
36 | 6.66
37 | 6.69
38 | 6.72
39 | 6.75
40 | 6.78
41 | 6.81
42 | 6.84
43 | 6.87
44 | 6.90
45 | 6.93
46 | 7.10
47 | 7.17
48 | 7.25
49 | 7.32
50 | 7.40
51 | 7.47
52 | 7.54
53 | 7.62
54 | 7.69
55 | 7.76
56 | 7.84
57 | 7.91
58 | 7.99
59 | 8.06
60 | 8.14
61 | 8.23
62 | 8.31
63 | 8.40
64 | 8.48
65 | 8.57
66 | 8.65
67 | 8.74
68 | 8.82
69 | 8.90
70 | 8.99
Oversized | 12.77

* * *

Destination Entered—DSCF

a. DSCF—5-Digit Machinable

Maximum weight (pounds) | DSCF 5-digit ($)
1 | 4.37
2 | 4.55
3 | 4.72
4 | 4.90
5 | 5.04
6 | 5.27
7 | 5.39
8 | 5.56
9 | 5.73
10 | 5.91
11 | 6.08
12 | 6.25
13 | 6.42
14 | 6.60
15 | 6.77
16 | 6.94
17 | 7.12
18 | 7.29
19 | 7.46
20 | 7.63
21 | 7.81
22 | 7.98
23 | 8.15
24 | 8.32
25 | 8.50
26 | 8.67
27 | 8.84
28 | 9.01
29 | 9.19
30 | 9.37
31 | 9.55
32 | 9.73
33 | 9.92
34 | 10.10
35 | 10.28

b. DSCF—3-Digit, 5-Digit Non-Machinable

Maximum weight (pounds) | DSCF 3-digit ($) | DSCF 5-digit ($)
1 | 6.37 | 4.37
2 | 6.55 | 4.55
3 | 6.72 | 4.72
4 | 6.90 | 4.90
5 | 7.04 | 5.04
6 | 7.27 | 5.27
7 | 7.39 | 5.39
8 | 7.56 | 5.56
9 | 7.73 | 5.73
10 | 7.91 | 5.91
11 | 8.08 | 6.08
12 | 8.25 | 6.25
13 | 8.42 | 6.42
14 | 8.60 | 6.60
15 | 8.77 | 6.77
16 | 8.94 | 6.94
17 | 9.12 | 7.12
18 | 9.29 | 7.29
19 | 9.46 | 7.46
20 | 9.63 | 7.63
21 | 9.81 | 7.81
22 | 9.98 | 7.98
23 | 10.15 | 8.15
24 | 10.32 | 8.32
25 | 10.50 | 8.50
26 | 10.67 | 8.67
27 | 10.84 | 8.84
28 | 11.01 | 9.01
29 | 11.19 | 9.19
30 | 11.37 | 9.37
31 | 11.55 | 9.55
32 | 11.73 | 9.73
33 | 11.92 | 9.92
34 | 12.10 | 10.10
35 | 12.28 | 10.28
36 | 12.88 | 10.88
37 | 13.07 | 11.07
38 | 13.26 | 11.26
39 | 13.45 | 11.45
40 | 13.64 | 11.64
41 | 13.83 | 11.83
42 | 14.02 | 12.02
43 | 14.21 | 12.21
44 | 14.40 | 12.40
45 | 14.59 | 12.59
46 | 14.78 | 12.78
47 | 14.97 | 12.97
48 | 15.16 | 13.16
49 | 15.35 | 13.35
50 | 15.54 | 13.54
51 | 15.73 | 13.73
52 | 15.92 | 13.92
53 | 16.11 | 14.11
54 | 16.30 | 14.30
55 | 16.49 | 14.49
56 | 16.68 | 14.68
57 | 16.86 | 14.86
58 | 17.05 | 15.05
59 | 17.24 | 15.24
60 | 17.43 | 15.43
61 | 17.62 | 15.62
62 | 17.81 | 15.81
63 | 18.00 | 16.00
64 | 18.19 | 16.19
65 | 18.38 | 16.38
66 | 18.57 | 16.57
67 | 18.76 | 16.76
68 | 18.95 | 16.95
69 | 19.14 | 17.14
70 | 19.33 | 17.33
Oversized | 25.40 | 25.40

* * *

Destination Entered—DNDC

a. DNDC—Machinable

Maximum weight (pounds) | DNDC zones 1 & 2 ($) | DNDC zone 3 ($) | DNDC zone 4 ($) | DNDC zone 5 ($)
1 | 5.98 | 6.82 | 7.78 | 9.14
2 | 6.26 | 7.30 | 8.42 | 9.83
3 | 6.54 | 7.79 | 9.05 | 10.53
4 | 6.82 | 8.27 | 9.69 | 11.23
5 | 6.99 | 8.63 | 10.18 | 11.92
6 | 7.28 | 9.12 | 10.81 | 12.65
7 | 7.64 | 9.62 | 11.44 | 13.38
8 | 7.92 | 10.12 | 12.07 | 14.11
9 | 8.21 | 10.62 | 12.70 | 14.83
10 | 8.50 | 11.11 | 13.46 | 15.56
11 | 8.78 | 11.73 | 14.05 | 16.25
12 | 9.07 | 12.23 | 14.65 | 16.93
13 | 9.36 | 12.61 | 15.24 | 17.62
14 | 9.65 | 13.23 | 15.84 | 18.30
15 | 9.93 | 13.60 | 16.43 | 18.94
16 | 10.22 | 14.23 | 16.89 | 19.52
17 | 10.51 | 14.58 | 17.35 | 20.10
18 | 10.79 | 15.06 | 17.81 | 20.68
19 | 11.08 | 15.55 | 18.28 | 21.26
20 | 11.37 | 16.02 | 18.74 | 21.79
21 | 11.65 | 16.46 | 19.16 | 22.31
22 | 11.94 | 16.91 | 19.39 | 22.84
23 | 12.23 | 17.53 | 19.80 | 23.37
24 | 12.52 | 17.98 | 20.42 | 23.90
25 | 12.80 | 18.19 | 20.84 | 24.37
26 | 13.09 | 18.57 | 21.03 | 24.79
27 | 13.38 | 19.15 | 21.64 | 25.21
28 | 13.66 | 19.35 | 22.04 | 25.64
29 | 13.95 | 19.73 | 22.44 | 26.06
30 | 14.24 | 20.07 | 22.84 | 26.48
31 | 14.38 | 20.40 | 22.98 | 26.90
32 | 14.81 | 20.74 | 23.58 | 27.32
33 | 15.10 | 21.07 | 23.71 | 27.75
34 | 15.39 | 21.41 | 24.31 | 28.17
35 | 15.67 | 21.96 | 24.68 | 28.59

b. DNDC—Non-Machinable

Maximum weight (pounds) | DNDC zones 1 & 2 ($) | DNDC zone 3 ($) | DNDC zone 4 ($) | DNDC zone 5 ($)
1 | 8.98 | 9.82 | 10.78 | 12.14
2 | 9.26 | 10.30 | 11.42 | 12.83
3 | 9.54 | 10.79 | 12.05 | 13.53
4 | 9.82 | 11.27 | 12.69 | 14.23
5 | 9.99 | 11.63 | 13.18 | 14.92
6 | 10.28 | 12.12 | 13.81 | 15.65
7 | 10.64 | 12.62 | 14.44 | 16.38
8 | 10.92 | 13.12 | 15.07 | 17.11
9 | 11.21 | 13.62 | 15.70 | 17.83
10 | 11.50 | 14.11 | 16.46 | 18.56
11 | 11.78 | 14.73 | 17.05 | 19.25
12 | 12.07 | 15.23 | 17.65 | 19.93
13 | 12.36 | 15.61 | 18.24 | 20.62
14 | 12.65 | 16.23 | 18.84 | 21.30
15 | 12.93 | 16.60 | 19.43 | 21.94
16 | 13.22 | 17.23 | 19.89 | 22.52
17 | 13.51 | 17.58 | 20.35 | 23.10
18 | 13.79 | 18.06 | 20.81 | 23.68
19 | 14.08 | 18.55 | 21.28 | 24.26
20 | 14.37 | 19.02 | 21.74 | 24.79
21 | 14.65 | 19.46 | 22.16 | 25.31
22 | 14.94 | 19.91 | 22.39 | 25.84
23 | 15.23 | 20.53 | 22.80 | 26.37
24 | 15.52 | 20.98 | 23.42 | 26.90
25 | 15.80 | 21.19 | 23.84 | 27.37
26 | 16.09 | 21.57 | 24.03 | 27.79
27 | 16.38 | 22.15 | 24.64 | 28.21
28 | 16.66 | 22.35 | 25.04 | 28.64
29 | 16.95 | 22.73 | 25.44 | 29.06
30 | 17.24 | 23.07 | 25.84 | 29.48
31 | 17.38 | 23.40 | 25.98 | 29.90
32 | 17.81 | 23.74 | 26.58 | 30.32
33 | 18.10 | 24.07 | 26.71 | 30.75
34 | 18.39 | 24.41 | 27.31 | 31.17
35 | 18.67 | 24.96 | 27.68 | 31.59
36 | 19.59 | 26.11 | 28.94 | 32.18
37 | 19.89 | 26.46 | 29.31 | 32.60
38 | 20.18 | 26.81 | 29.68 | 33.02
39 | 20.48 | 27.16 | 30.05 | 33.44
40 | 20.77 | 27.50 | 30.42 | 33.84
41 | 21.07 | 27.85 | 30.77 | 34.25
42 | 21.36 | 28.20 | 31.13 | 34.65
43 | 21.66 | 28.55 | 31.49 | 35.05
44 | 21.95 | 28.90 | 31.85 | 35.45
45 | 22.25 | 29.24 | 32.21 | 35.85
46 | 22.55 | 29.59 | 32.57 | 36.25
47 | 22.84 | 29.94 | 32.93 | 36.65
48 | 23.14 | 30.29 | 33.29 | 37.05
49 | 23.43 | 30.64 | 33.64 | 37.45
50 | 23.72 | 30.97 | 34.00 | 37.83
51 | 24.00 | 31.31 | 34.34 | 38.21
52 | 24.29 | 31.65 | 34.68 | 38.59
53 | 24.57 | 31.99 | 35.02 | 38.97
54 | 24.86 | 32.33 | 35.35 | 39.35
55 | 25.14 | 32.65 | 35.69 | 39.73
56 | 25.43 | 32.97 | 36.03 | 40.11
57 | 25.71 | 33.29 | 36.37 | 40.49
58 | 26.00 | 33.60 | 36.70 | 40.87
59 | 26.28 | 33.92 | 37.04 | 41.25
60 | 26.56 | 34.23 | 37.38 | 41.61
61 | 26.85 | 34.55 | 37.70 | 41.97
62 | 27.13 | 34.87 | 38.01 | 42.33
63 | 27.42 | 35.18 | 38.33 | 42.69
64 | 27.70 | 35.50 | 38.64 | 43.04
65 | 27.99 | 35.82 | 38.96 | 43.40
66 | 28.27 | 36.12 | 39.28 | 43.74
67 | 28.56 | 36.43 | 39.59 | 44.08
68 | 28.84 | 36.74 | 39.91 | 44.42
69 | 29.13 | 37.04 | 40.23 | 44.75
70 | 29.41 | 37.35 | 40.54 | 45.09
Oversized | 39.71 | 53.14 | 63.35 | 73.14

* * *

Non-Destination Entered—Parcel Select Ground

a. Parcel Select Ground

Maximum weight (pounds) | Zones 1 & 2 ($) | Zone 3 ($) | Zone 4 ($) | Zone 5 ($) | Zone 6 ($) | Zone 7 ($) | Zone 8 ($)
1 | 6.92 | 7.25 | 7.46 | 7.65 | 7.78 | 7.90 | 8.12
2 | 7.54 | 7.74 | 8.02 | 8.61 | 9.79 | 10.29 | 10.89
3 | 7.74 | 8.13 | 8.49 | 9.34 | 11.90 | 13.19 | 15.39
4 | 7.84 | 8.35 | 8.97 | 10.13 | 13.91 | 15.76 | 17.79
5 | 7.94 | 8.40 | 9.29 | 10.44 | 15.89 | 18.16 | 20.66
6 | 8.05 | 8.44 | 9.40 | 13.98 | 18.22 | 21.15 | 24.17
7 | 8.29 | 9.59 | 9.64 | 15.69 | 20.21 | 23.88 | 27.20
8 | 8.35 | 10.07 | 11.39 | 17.15 | 22.22 | 26.33 | 30.59
9 | 9.18 | 10.46 | 11.87 | 18.40 | 24.20 | 28.54 | 34.05
10 | 9.66 | 11.00 | 12.06 | 20.10 | 26.42 | 31.73 | 37.43
11 | 11.20 | 13.43 | 14.40 | 22.37 | 28.90 | 35.20 | 41.32
12 | 11.90 | 14.29 | 16.79 | 23.98 | 31.56 | 38.10 | 44.38
13 | 12.52 | 15.12 | 17.58 | 25.27 | 33.89 | 39.65 | 45.96
14 | 13.17 | 15.96 | 18.52 | 26.76 | 35.81 | 41.88 | 48.26
15 | 13.69 | 16.80 | 19.43 | 28.14 | 37.20 | 42.69 | 49.53
16 | 14.29 | 17.87 | 20.68 | 29.83 | 39.70 | 45.54 | 52.78
17 | 14.75 | 18.70 | 21.67 | 31.30 | 41.73 | 47.92 | 55.60
18 | 15.04 | 19.28 | 22.65 | 32.71 | 43.95 | 50.30 | 58.40
19 | 15.39 | 19.73 | 23.17 | 33.58 | 45.93 | 52.65 | 61.10
20 | 16.00 | 20.04 | 23.64 | 34.20 | 47.13 | 54.63 | 64.04
21 | 16.71 | 20.52 | 24.19 | 34.81 | 47.50 | 55.15 | 64.87
22 | 17.24 | 21.08 | 25.00 | 35.51 | 47.83 | 55.58 | 65.62
23 | 17.76 | 21.58 | 25.60 | 36.16 | 48.09 | 55.96 | 66.01
24 | 18.49 | 22.50 | 27.06 | 37.59 | 49.11 | 57.43 | 67.63
25 | 19.20 | 23.30 | 28.78 | 38.86 | 49.84 | 58.87 | 68.81
26 | 20.37 | 24.99 | 31.80 | 40.94 | 51.06 | 60.33 | 70.98
27 | 21.59 | 26.12 | 33.74 | 44.64 | 51.75 | 61.74 | 73.65
28 | 22.25 | 26.47 | 34.70 | 45.81 | 52.46 | 63.18 | 76.43
29 | 22.94 | 26.74 | 35.64 | 46.42 | 53.34 | 64.64 | 78.50
30 | 23.62 | 27.13 | 36.48 | 47.06 | 54.84 | 66.06 | 80.19
31 | 24.29 | 27.40 | 37.05 | 47.66 | 55.64 | 67.53 | 81.84
32 | 24.57 | 27.98 | 37.67 | 48.22 | 56.37 | 68.99 | 83.52
33 | 24.95 | 28.76 | 38.61 | 48.86 | 57.47 | 70.42 | 85.06
34 | 25.18 | 29.51 | 39.59 | 49.92 | 58.84 | 71.87 | 86.66
35 | 25.46 | 30.21 | 40.16 | 50.98 | 60.42 | 73.32 | 88.16
36 | 25.78 | 31.09 | 40.69 | 52.09 | 61.95 | 74.32 | 89.66
37 | 26.05 | 31.67 | 41.28 | 53.02 | 63.58 | 75.27 | 91.14
38 | 26.31 | 32.44 | 41.80 | 54.08 | 65.35 | 76.14 | 92.59
39 | 26.56 | 33.20 | 42.28 | 55.20 | 66.90 | 78.15 | 94.03
40 | 26.84 | 33.90 | 42.83 | 56.36 | 67.98 | 79.91 | 95.32
41 | 27.13 | 34.47 | 43.29 | 56.86 | 69.13 | 81.62 | 96.70
42 | 27.33 | 34.73 | 43.67 | 57.82 | 70.35 | 82.74 | 98.03
43 | 27.65 | 34.99 | 44.06 | 58.78 | 72.04 | 83.77 | 99.29
44 | 27.84 | 35.24 | 44.44 | 59.73 | 73.19 | 84.77 | 100.41
45 | 28.02 | 35.49 | 44.84 | 60.69 | 74.00 | 85.69 | 101.69
46 | 28.27 | 35.75 | 45.23 | 61.65 | 74.83 | 86.62 | 102.92
47 | 28.48 | 36.00 | 45.61 | 62.61 | 75.61 | 87.61 | 104.06
48 | 28.72 | 36.26 | 46.00 | 63.56 | 76.59 | 88.45 | 105.17
49 | 28.94 | 36.50 | 46.39 | 64.52 | 77.64 | 89.38 | 106.24
50 | 29.06 | 36.76 | 46.78 | 65.48 | 78.73 | 90.52 | 107.36
51 | 29.49 | 37.02 | 47.15 | 66.60 | 79.81 | 91.82 | 108.36
52 | 29.93 | 37.28 | 47.54 | 67.07 | 80.59 | 93.21 | 109.65
53 | 30.49 | 37.52 | 47.93 | 67.62 | 81.27 | 94.74 | 111.05
54 | 30.93 | 37.79 | 48.31 | 68.21 | 81.85 | 96.10 | 112.61
55 | 31.42 | 38.03 | 48.70 | 68.64 | 82.53 | 97.63 | 114.13
56 | 31.85 | 38.29 | 49.09 | 69.16 | 83.08 | 99.01 | 115.30
57 | 32.36 | 38.54 | 49.48 | 69.57 | 83.71 | 100.52 | 116.32
58 | 32.85 | 38.79 | 49.86 | 70.01 | 84.21 | 101.85 | 117.29
59 | 33.32 | 39.05 | 50.24 | 70.44 | 84.69 | 102.55 | 118.15
60 | 33.74 | 39.30 | 50.63 | 70.83 | 85.11 | 103.15 | 119.00
61 | 34.29 | 39.55 | 51.02 | 71.19 | 85.59 | 103.75 | 120.60
62 | 34.71 | 39.81 | 51.40 | 71.50 | 85.99 | 104.21 | 122.53
63 | 35.34 | 40.07 | 51.80 | 71.88 | 86.48 | 104.71 | 124.50
64 | 35.65 | 40.31 | 52.18 | 72.20 | 86.87 | 105.19 | 126.41
65 | 36.17 | 40.57 | 52.58 | 72.42 | 87.12 | 105.72 | 128.39
66 | 36.64 | 40.83 | 52.95 | 72.75 | 87.56 | 106.04 | 130.26
67 | 37.19 | 41.08 | 53.85 | 73.01 | 87.84 | 106.46 | 132.00
68 | 37.63 | 41.33 | 54.53 | 73.21 | 88.95 | 107.02 | 133.40
69 | 38.14 | 41.59 | 55.23 | 73.43 | 90.02 | 107.52 | 134.81
70 | 38.54 | 41.84 | 56.10 | 73.66 | 91.11 | 107.91 | 136.27
Oversized | 76.95 | 97.85 | 118.75 | 139.65 | 160.55 | 181.45 | 202.35

* * *

Parcel Select Lightweight

Maximum weight (ounces) | Entry point/sortation level: DDU/5-digit ($) | Entry point/sortation level: DSCF/5-digit ($) | Entry point/sortation level: DNDC/5-digit ($) | Entry point/sortation level: DSCF/SCF ($) | Entry point/sortation level: DNDC/SCF ($) | Entry point/sortation level: DNDC/NDC ($) | Entry point/sortation level: None/NDC ($) | Entry point/sortation level: None/mixed NDC/single- piece ($)
1 | 1.81 | 2.11 | 2.33 | 2.34 | 2.72 | 2.97 | 3.34 | 3.73
2 | 1.81 | 2.11 | 2.33 | 2.34 | 2.72 | 2.97 | 3.34 | 3.73
3 | 1.81 | 2.11 | 2.33 | 2.34 | 2.72 | 2.97 | 3.34 | 3.73
4 | 1.81 | 2.11 | 2.33 | 2.34 | 2.72 | 2.97 | 3.34 | 3.73
5 | 1.82 | 2.14 | 2.38 | 2.40 | 2.83 | 3.09 | 3.48 | 3.88
6 | 1.82 | 2.14 | 2.38 | 2.40 | 2.83 | 3.09 | 3.48 | 3.88
7 | 1.82 | 2.14 | 2.38 | 2.40 | 2.83 | 3.09 | 3.48 | 3.88
8 | 1.82 | 2.14 | 2.38 | 2.40 | 2.83 | 3.09 | 3.48 | 3.88
9 | 1.94 | 2.37 | 2.88 | 2.92 | 3.42 | 3.74 | 4.17 | 4.60
10 | 1.94 | 2.37 | 2.88 | 2.92 | 3.42 | 3.74 | 4.17 | 4.60
11 | 1.94 | 2.37 | 2.88 | 2.92 | 3.42 | 3.74 | 4.17 | 4.60
12 | 1.94 | 2.37 | 2.88 | 2.92 | 3.42 | 3.74 | 4.17 | 4.60
13 | 2.12 | 2.65 | 3.32 | 3.38 | 3.92 | 4.25 | 4.69 | 5.15
14 | 2.12 | 2.65 | 3.32 | 3.38 | 3.92 | 4.25 | 4.69 | 5.15
15 | 2.12 | 2.65 | 3.32 | 3.38 | 3.92 | 4.25 | 4.69 | 5.15
15.999 | 2.12 | 2.65 | 3.32 | 3.38 | 3.92 | 4.25 | 4.69 | 5.15

* * *

2120 Parcel Return Service

* * *

2120.6 Prices

RSCF Entered

a. Machinable RSCF

Maximum weight (pounds) | RSCF ($)
1 | 3.83
2 | 4.33
3 | 4.65
4 | 5.00
5 | 5.38
6 | 5.91
7 | 6.32
8 | 6.84
9 | 7.31
10 | 7.82
11 | 8.28
12 | 8.86
13 | 9.26
14 | 9.58
15 | 9.93
16 | 10.26
17 | 10.63
18 | 10.93
19 | 11.22
20 | 11.60
21 | 11.90
22 | 12.26
23 | 12.50
24 | 12.89
25 | 13.16
26 | 13.45
27 | 13.76
28 | 14.03
29 | 14.35
30 | 14.60
31 | 14.91
32 | 15.22
33 | 15.47
34 | 15.88
35 | 16.15

b. Nonmachinable RSCF

Maximum weight (pounds) | RSCF ($)
1 | 6.83
2 | 7.33
3 | 7.65
4 | 8.00
5 | 8.38
6 | 8.91
7 | 9.32
8 | 9.84
9 | 10.31
10 | 10.82
11 | 11.28
12 | 11.86
13 | 12.26
14 | 12.58
15 | 12.93
16 | 13.26
17 | 13.63
18 | 13.93
19 | 14.22
20 | 14.60
21 | 14.90
22 | 15.26
23 | 15.50
24 | 15.89
25 | 16.16
26 | 16.45
27 | 16.76
28 | 17.03
29 | 17.35
30 | 17.60
31 | 17.91
32 | 18.22
33 | 18.47
34 | 18.88
35 | 19.15
36 | 19.44
37 | 19.70
38 | 19.95
39 | 20.21
40 | 20.46
41 | 20.72
42 | 20.97
43 | 21.23
44 | 21.48
45 | 21.74
46 | 21.99
47 | 22.25
48 | 22.50
49 | 22.76
50 | 23.01
51 | 23.27
52 | 23.52
53 | 23.78
54 | 24.03
55 | 24.29
56 | 24.54
57 | 24.80
58 | 25.05
59 | 25.31
60 | 25.56
61 | 25.82
62 | 26.07
63 | 26.33
64 | 26.58
65 | 26.84
66 | 27.09
67 | 27.35
68 | 27.60
69 | 27.86
70 | 27.95
Oversized | 39.62

* * *

RDU Entered

a. Machinable RDU

Maximum weight (pounds) | RDU ($)
1 | 3.05
2 | 3.14
3 | 3.22
4 | 3.32
5 | 3.40
6 | 3.50
7 | 3.58
8 | 3.66
9 | 3.76
10 | 3.84
11 | 3.94
12 | 4.02
13 | 4.12
14 | 4.20
15 | 4.28
16 | 4.38
17 | 4.46
18 | 4.56
19 | 4.64
20 | 4.74
21 | 4.82
22 | 4.90
23 | 5.00
24 | 5.08
25 | 5.18
26 | 5.24
27 | 5.33
28 | 5.42
29 | 5.51
30 | 5.60
31 | 5.69
32 | 5.77
33 | 5.86
34 | 5.95
35 | 6.04

b. Nonmachinable RDU

Maximum weight (pounds) | RDU ($)
1 | 3.05
2 | 3.14
3 | 3.22
4 | 3.32
5 | 3.40
6 | 3.50
7 | 3.58
8 | 3.66
9 | 3.76
10 | 3.84
11 | 3.94
12 | 4.02
13 | 4.12
14 | 4.20
15 | 4.28
16 | 4.38
17 | 4.46
18 | 4.56
19 | 4.64
20 | 4.74
21 | 4.82
22 | 4.90
23 | 5.00
24 | 5.08
25 | 5.18
26 | 5.24
27 | 5.33
28 | 5.42
29 | 5.51
30 | 5.60
31 | 5.69
32 | 5.77
33 | 5.86
34 | 5.95
35 | 6.04
36 | 6.13
37 | 6.22
38 | 6.30
39 | 6.39
40 | 6.48
41 | 6.57
42 | 6.66
43 | 6.75
44 | 6.83
45 | 6.92
46 | 7.01
47 | 7.10
48 | 7.19
49 | 7.28
50 | 7.36
51 | 7.45
52 | 7.54
53 | 7.63
54 | 7.72
55 | 7.81
56 | 7.89
57 | 7.98
58 | 8.07
59 | 8.16
60 | 8.25
61 | 8.34
62 | 8.42
63 | 8.51
64 | 8.60
65 | 8.69
66 | 8.78
67 | 8.86
68 | 8.95
69 | 9.04
70 | 9.13
Oversized | 12.06

* * *

2125 First-Class Package Service

* * *

2125.6 Prices

Commercial

Maximum weight (ounces) | Local, zones 1 & 2 ($) | Zone 3 ($) | Zone 4 ($) | Zone 5 ($) | Zone 6 ($) | Zone 7 ($) | Zone 8 ($)
1 | 2.74 | 2.76 | 2.78 | 2.84 | 2.93 | 3.05 | 3.18
2 | 2.74 | 2.76 | 2.78 | 2.84 | 2.93 | 3.05 | 3.18
3 | 2.74 | 2.76 | 2.78 | 2.84 | 2.93 | 3.05 | 3.18
4 | 2.74 | 2.76 | 2.78 | 2.84 | 2.93 | 3.05 | 3.18
5 | 3.21 | 3.23 | 3.25 | 3.31 | 3.39 | 3.52 | 3.67
6 | 3.21 | 3.23 | 3.25 | 3.31 | 3.39 | 3.52 | 3.67
7 | 3.21 | 3.23 | 3.25 | 3.31 | 3.39 | 3.52 | 3.67
8 | 3.21 | 3.23 | 3.25 | 3.31 | 3.39 | 3.52 | 3.67
9 | 3.93 | 3.97 | 4.00 | 4.08 | 4.18 | 4.32 | 4.46
10 | 3.93 | 3.97 | 4.00 | 4.08 | 4.18 | 4.32 | 4.46
11 | 3.93 | 3.97 | 4.00 | 4.08 | 4.18 | 4.32 | 4.46
12 | 3.93 | 3.97 | 4.00 | 4.08 | 4.18 | 4.32 | 4.46
13 | 5.04 | 5.08 | 5.12 | 5.27 | 5.40 | 5.54 | 5.70
14 | 5.04 | 5.08 | 5.12 | 5.27 | 5.40 | 5.54 | 5.70
15 | 5.04 | 5.08 | 5.12 | 5.27 | 5.40 | 5.54 | 5.70
15.999 | 5.04 | 5.08 | 5.12 | 5.27 | 5.40 | 5.54 | 5.70

* * *

[FR Doc. 2020-18325 Filed 8-20-20; 8:45 am]

BILLING CODE 7710-12-P